DEPARTMENT OF COMMERCE

National Oceanic and Atmospheric Administration

50 CFR Part 679

[Docket No.070213032-7032-01; I.D. 112206B]

Fisheries of the Exclusive Economic Zone Off Alaska; Gulf of Alaska; 2007 and 2008 Final Harvest Specifications for Groundfish

AGENCY: National Marine Fisheries Service (NMFS), National Oceanic and Atmospheric Administration (NOAA), Commerce.

ACTION: Final rule; closures.

SUMMARY: NMFS announces 2007 and 2008 final harvest specifications, reserves and apportionments thereof, Pacific halibut prohibited species catch (PSC) limits, and associated management measures for the groundfish fishery of the Gulf of Alaska (GOA). This action is necessary to establish harvest limits and associated management measures for groundfish during the 2007 and 2008 fishing years and to accomplish the goals and objectives of the Fishery Management Plan for Groundfish of the Gulf of Alaska (FMP). The intended effect of this action is to conserve and manage the groundfish resources in the GOA in accordance with the Magnuson-Stevens Fishery Conservation and Management Act (MSA).

DATES: The 2007 and 2008 final harvest specifications and associated management measures are effective at 1200 hrs, Alaska local time (A.l.t.), March 5, 2007, through 2400 hrs, A.l.t., December 31, 2008.

ADDRESSES: Copies of the Final Environmental Impact Statement (EIS), Record of Decision (ROD), and Final Regulatory Flexibility Analysis (FRFA) prepared for this action are available from the Alaska Region, NMFS, P.O. Box 21668, Juneau, AK 99802, Attn: Ellen Sebastian, or from the Alaska Region website at http://www.fakr.noaa.gov. Copies of the final 2006 Stock Assessment and Fishery Evaluation (SAFE) report for the groundfish resources of the GOA, dated November 2006, are available from the North Pacific Fishery Management Council (Council), West 4th Avenue, Suite 306, Anchorage, AK 99510 2252 (907 271 2809), or from its website at http://www.fakr.noaa.gov/npfmc.

FOR FURTHER INFORMATION CONTACT: Tom Pearson, Sustainable Fisheries Division, Alaska Region, 907-481-1780, or e-mail at tom.pearson@noaa.gov.

SUPPLEMENTARY INFORMATION: NMFS manages the groundfish fisheries in the exclusive economic zone of the GOA under the FMP. The Council prepared the FMP under the authority of the MSA, 16 U.S.C. 1801, et seq. Regulations governing U.S. fisheries and implementing the FMP appear at 50 CFR parts 600, 679, and 680.

The FMP and its implementing regulations require NMFS, after consultation with the Council, to specify and apportion the total allowable catch (TAC) for each target species and for the “other species” category, the sum of which must be within the optimum yield (OY) range of 116,000 to 800,000 metric tons (mt). The final specifications set forth in Tables 1 through 22 of this document satisfy this requirement. For 2007, the sum of the TAC amounts is 269,912 mt. For 2008, the sum of the TAC amounts is 286,173 mt.

Section 679.20(c)(1) further requires NMFS to publish and solicit public comment on proposed annual TACs, halibut PSC amounts, and seasonal allowances of pollock and inshore/offshore Pacific cod. The proposed GOA groundfish specifications and Pacific halibut PSC allowances for 2007 and 2008 were published in the Federal Register on December 15, 2006 (71 FR 75437). Comments were invited and accepted through January 16, 2007. NMFS received 2 letters of comment on the proposed specifications. These letters of comment are summarized in the Response to Comments section of this action. In December 2006, NMFS consulted with the Council regarding the 2007 and 2008 harvest specifications. After considering public comments received, as well as biological and economic data that were available at the Council's December 2006 meeting, NMFS is implementing the 2007 and 2008 final harvest specifications, as recommended by the Council.

Acceptable Biological Catch (ABC) and TAC Specifications

In December 2006, the Council, its Advisory Panel (AP), and its Scientific and Statistical Committee (SSC), reviewed current biological and harvest information about the condition of groundfish stocks in the GOA. This information was compiled by the Council's GOA Plan Team and was presented in the final 2006 SAFE report for the GOA groundfish fisheries, dated November 2006 (see ADDRESSES). The SAFE report contains a review of the latest scientific analyses and estimates of each species= biomass and other biological parameters, as well as summaries of the available information on the GOA ecosystem and the economic condition of the groundfish fisheries off Alaska. From these data and analyses, the Plan Team estimates an ABC for each species or species category.

The final ABC levels are based on the best available biological and socioeconomic information, including projected biomass trends, information on assumed distribution of stock biomass, and revised methods used to calculate stock biomass. The FMP specifies the formulas, or tiers, to be used to compute ABCs and overfishing levels (OFLs). The formulas applicable to a particular stock or stock complex are determined by the level of reliable information available to fisheries scientists. This information is categorized into a successive series of six tiers with tier one representing the highest level of information and tier six the lowest level of information.

The final TAC recommendations were based on the ABCs as adjusted for other biological and socioeconomic considerations, including maintaining the total TAC within the required OY range of 116,000 to 800,000 mt. The Council adopted the AP's TAC recommendations. The Council recommended TACs for 2007 and 2008 equal to ABCs for pollock, deep-water flatfish, rex sole, sablefish, Pacific ocean perch, shortraker rockfish, rougheye rockfish, northern rockfish, pelagic shelf rockfish, thornyhead rockfish, demersal shelf rockfish, big skate, longnose skate, and other skates. The Council recommended TACs less than the ABCs for Pacific cod, flathead sole, shallow-water flatfish, arrowtooth flounder, other rockfish, and Atka mackerel. None of the Council's recommended TACs for 2007 and 2008 exceeds the final ABC for any species or species category. The 2007 and 2008 harvest specifications approved by the Secretary of Commerce (Secretary) are unchanged from those recommended by the Council and are consistent with the preferred harvest strategy alternative in the EIS. The 2007 and 2008 TACs are less than the maximum permissible ABCs recommended by the Council's plan teams and SSC NMFS finds that the recommended ABCs and TACs are consistent with the biological condition of the groundfish stocks as described in the 2006 SAFE report and approved by the Council. The apportionment of TAC amounts among gear types, processing sectors, and seasons is discussed below.

NMFS finds that the Council's recommendations for OFL, ABC, and TAC amounts are consistent with the biological condition of groundfish stocks as adjusted for other biological and socioeconomic considerations, including maintaining the total TAC within the OY range. NMFS reviewed the Council's recommended TAC specifications and apportionments and approves these specifications under § 679.20(c)(3)(ii).

Tables 1 and 2 list the final 2007 and 2008 OFLs, ABCs, TACs, and area apportionments of groundfish in the GOA. The sum of 2007 ABCs is 490,327 mt, which is lower than the 2006 ABC total of 500,625 mt (71 FR 10870, March 3, 2006), while the sum of 2008 ABCs of 511,838 mt is higher than the 2006 total.

Specification and Apportionment of TAC Amounts

As in 2006, the SSC and Council recommended the method of apportioning the sablefish ABC among management areas in 2007 and 2008 include commercial fishery and survey data. NMFS stock assessment scientists believe the use of unbiased commercial fishery data reflecting catch-per-unit effort provides a desirable input for stock distribution assessments. The use of commercial fishery data is evaluated annually to ensure unbiased information is included in stock distribution models. The Council's recommendation for sablefish area apportionments also takes into account the prohibition on the use of trawl gear in the Southeast Outside (SEO) District of the Eastern Regulatory Area and makes available 5 percent of the combined Eastern Regulatory Area ABCs to trawl gear for use as incidental catch in other directed groundfish fisheries in the West Yakutat (WYK) District (§ 679.20(a)(4)(i)).

Since the inception of a State of Alaska (State) managed pollock fishery in Prince William Sound (PWS), the GOA Plan Team has recommended the guideline harvest level (GHL) for the pollock fishery in PWS be deducted from the ABC for the western stock of pollock in the GOA in the Western/Central/West Yakutat (W/C/WYK) Area. For the 2007 and 2008 pollock fisheries in PWS the State's GHL is 1,650 mt.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (§§ 693.23(d)(2)(i) through (iv) and 679.20(a)(5)(iii)(B)).

The SSC, AP, and Council adopted the Plan Team's OFL and ABC recommendations for all groundfish species categories.

The SSC, AP, and Council recommended apportionment of the ABC for Pacific cod in the GOA among regulatory areas based on the three most recent NMFS summer trawl surveys.

The 2007 and 2008 Pacific cod TACs are affected by the State's fishery for Pacific cod in State waters in the Central and Western Regulatory Areas, as well as in PWS. The SSC, AP, and Council recommended that the sum of all State and Federal water Pacific cod removals not exceed the ABC. Accordingly, the Council recommended reduction of the 2007 and 2008 Pacific cod TACs from the ABCs in the Central and Western Regulatory Areas to account for State GHLs. Therefore, the 2007 Pacific cod TACs are less than the ABCs by the following amounts: (1) Eastern GOA, 413 mt; (2) Central GOA, 9,468 mt; and (3) Western GOA, 6,714 mt. Similarly, the 2008 Pacific cod TACs are less than the ABCs as follows: (1) Eastern GOA, 428 mt; (2) Central GOA, 9,817 mt; and (3) Western GOA, 6,961 mt. These amounts reflect the sum of the State's 2007 and 2008 GHLs in these areas, which are 10 percent, 25 percent, and 25 percent of the Eastern, Central, and Western GOA ABCs, respectively. The percentages of ABC used to calculate the GHLs for the State managed Pacific cod fisheries are unchanged from 2006.

NMFS also is establishing seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(11)).

As in 2006, NMFS establishes for 2007 and 2008 an A season directed fishing allowance (DFA) for the Pacific cod fisheries in the GOA based on the management area TACs minus the recent average A season incidental catch of Pacific cod in each management area before June 10 (§ 679.20(d)(1)). The DFA and incidental catch before June 10 will be managed such that total harvest in the A season will be no more than 60 percent of the annual TAC. Incidental catch taken after June 10 will continue to accrue against the B season TAC. This action meets the intent of the Steller Sea Lion Protection Measures by achieving temporal dispersion of the Pacific cod removals and by reducing the likelihood of harvest exceeding 60 percent of the annual TAC in the A season (January 1 through June 10). The seasonal apportionments of the annual Pacific cod TAC are discussed in greater detail below.

The FMP specifies that the amount for the “other species” category be set at an amount less than or equal to 5 percent of the combined TAC amounts for target species. The final 2007 and 2008 annual GOA-wide TACs of 4,500 mt are less than 5 percent of the combined TAC amounts for target species. The sums of the TACs for all GOA groundfish is 269,912 mt for 2007 and 286,173 mt for 2008, which are within the OY range specified by the FMP. The sums of the 2007 and 2008 TACs are lower than the 2006 TAC sum of 291,950 mt.

Central Gulf of Alaska Rockfish Pilot Program

Congress granted NMFS specific statutory authority to manage Central GOA rockfish fisheries in Section 802 of the Consolidated Appropriations Act of 2004 (Public Law 108-199). The Council adopted a proposed Central Gulf of Alaska Rockfish Pilot Program (Rockfish Program) to meet the requirements of Section 802 on June 6, 2005. The elements of the Rockfish Program are discussed in detail in the proposed rule to Amendment 68 to the FMP (71 FR 33040, June 7, 2006) and in the final rule to implement the Rockfish Program (71 FR 67210, November 20, 2006). The final rule became effective December 20, 2006. The Rockfish Program is authorized for five years, from January 1, 2007, until December 31, 2011. A brief overview of major provisions of the Rockfish Program which have implications for the 2007 and 2008 harvest specifications follows.

The Rockfish Program allocates exclusive harvesting and processing privileges for primary rockfish species and for associated species harvested incidentally to those rockfish in the Central GOA, an area from 147° W. longitude to 159° W. longitude. The primary rockfish species are northern rockfish, Pacific ocean perch, and pelagic shelf rockfish. Secondary species are those species incidentally harvested during the harvest of the primary rockfish species fisheries and include Pacific cod, rougheye rockfish, shortraker rockfish, sablefish, and thornyhead rockfish. The Rockfish Program also allocates a portion of the total GOA halibut mortality limit annually specified under § 679.21 to participants based on historic halibut mortality rates in the primary rockfish species fisheries. The amounts of primary rockfish species, secondary species, and halibut mortality to be allocated to the Rockfish Program will not be known until eligible participants apply for participation in the Program. These amounts will be posted on the Alaska Region website at http://www.fakr.noaa.gov when they become available early in 2007.

The Rockfish Program also establishes catch limits, commonly called “sideboards,” to limit the ability of participants eligible for the Rockfish Program to harvest fish in fisheries other than the Central GOA rockfish fisheries. Sideboards limit the total amount of catch in other groundfish fisheries that can be taken by eligible harvesters to historic levels, including harvests made in the State's parallel groundfish fisheries. Parallel fisheries are authorized by the State in its waters concurrent with the Federal fishery. Parallel fisheries catch is deducted from the Federal TACs. Sideboards limit catch in specific rockfish fisheries and the amount of halibut bycatch that can be used in certain flatfish fisheries. Tables 18 and 19 list the 2007 and 2008 final groundfish sideboard limitations. Table 20 lists the 2007 and 2008 final halibut mortality limitations.

Changes From the Proposed 2007 and 2008 Harvest Specifications in the GOA

In October 2006, the Council's recommendations for the proposed 2007 and 2008 harvest specifications (71 FR 75437, December 15, 2006) were based largely upon information contained in the final 2005 SAFE report for the GOA groundfish fisheries, dated November 2005. The Council recommended that OFLs and ABCs for stocks in tiers 1 through 3 be based on biomass projections as set forth in the 2005 SAFE report and estimates of groundfish harvests through the 2006 and 2007 fishing years. For stocks in tiers 4 through 6, for which biomass projections could not be made, the Council recommended the same OFL and ABC levels for 2006 until the final 2006 SAFE report could be completed.

The 2006 SAFE report, dated November 2006, which was not available when the Council made its recommendations in October 2006, contains the best and most recent scientific information on the condition of the groundfish stocks. This report was considered in December 2006 by the Council when it made recommendations for the final 2007 and 2008 harvest specifications. Based on the final 2006 SAFE report, the sum of the 2007 final TACs for the GOA (269,912 mt) is 5,544 mt greater than the sum of the proposed TACs (264,367 mt). The largest 2007 increases occurred for Pacific cod, from 44,705 mt to 52,264 mt (17 percent increase); rex sole, from 8,700 mt to 9,100 mt (5 percent increase); sablefish, from 13,700 mt to 14,310 mt (4 percent increase); and for pelagic shelf rockfish, from 5,461 mt to 5,542 mt (1 percent increase). The largest decreases occurred for pollock, from 70,507 mt to 68,307 mt (3 percent decrease); and for northern rockfish, from 5,900 mt to 4,938 mt (16 percent decrease). Other increases or decreases in 2007 and 2008 are within these ranges.

Compared to the proposed 2007 and 2008 harvest specifications, the Council's final 2007 and 2008 TAC recommendations increase fishing opportunities for species for which the Council had sufficient information to raise TAC levels. These include, Pacific cod, rex sole, sablefish, and pelagic shelf rockfish. Conversely, the Council reduced TAC levels to provide greater protection for several species including pollock, deep water flatfish, Pacific ocean perch, and northern rockfish. The changes recommended by the Council for the 2007 and 2008 fishing years were based on the best scientific information available, consistent with National Standard 2 of the MSA, and within a reasonable range of variation from the proposed TAC recommendations so that the affected public was fairly apprized and could have made meaningful comments based on the proposed specifications. Tables 1 and 2 list the 2007 and 2008 final OFL, ABC, and TAC amounts of the GOA groundfish.

Table 1 - Final 2007 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
(values are rounded to the nearest metric ton)
Species | Area¹ | ABC | TAC | OFL
Pollock² |  |  |  |
| Shumagin (610) | 25,012 | 25,012 | n/a
| Chirikof (620) | 20,890 | 20,980 | n/a
| Kodiak (630) | 14,850 | 14,850 | n/a
| WYK (640) | 1,398 | 1,398 | n/a
Subtotal | W/C/WYK | 62,150 | 62,150 | 87,220
| SEO (650) | 6,157 | 6,157 | 8,209
Total |  | 68,307 | 68,307 | 95,429
Pacific cod³ | W | 26,855 | 20,141 | n/a
| C | 37,873 | 28,405 | n/a
| E | 4,131 | 3,718 | n/a
Total |  | 68,859 | 52,264 | 97,600
Flatfish⁴ (deep-water) | W | 420 | 420 | n/a
| C | 4,163 | 4,163 | n/a
| WYK | 2,677 | 2,677 | n/a
| SEO | 1,447 | 1,447 | n/a
Total |  | 8,707 | 8,707 | 10,431
Rex sole | W | 1,147 | 1,147 | n/a
| C | 5,446 | 5,446 | n/a
| WYK | 1,037 | 1,037 | n/a
| SEO | 1,470 | 1,470 | n/a
Total |  | 9,100 | 9,100 | 11,900
Flathead sole | W | 10,908 | 2,000 | n/a
| C | 26,054 | 5,000 | n/a
| WYK | 2,091 | 2,091 | n/a
| SEO | 57 | 57 | n/a
Total |  | 39,110 | 9,148 | 48,658
Flatfish⁵(shallow-water) | W | 24,720 | 4,500 | n/a
| C | 24,258 | 13,000 | n/a
| WYK | 628 | 628 | n/a
| SEO | 1,844 | 1,844 | n/a
Total |  | 51,450 | 19,972 | 62,418
Arrowtooth flounder | W | 20,852 | 8,000 | n/a
| C | 139,582 | 30,000 | n/a
| WYK | 16,507 | 2,500 | n/a
| SEO | 7,067 | 2,500 | n/a
Total |  | 184,008 | 43,000 | 214,828
Sablefish⁶ | W | 2,470 | 2,470 | n/a
| C | 6,190 | 6,190 | n/a
| WYK | 2,280 | 2,280 | n/a
| SEO | 3,370 | 3,370 | n/a
Subtotal | E(WYK and SEO) | 5,650 | 5,650 | n/a
Total |  | 14,310 | 14,310 | 16,906
Pacific ocean perch⁷ | W | 4,244 | 4,244 | 4,976
| C | 7,612 | 7,612 | 8,922
| WYK | 1,140 | 1,140 | n/a
| SEO | 1,640 | 1,640 | n/a
Subtotal | E(WYK and SEO) | 2,780 | 2,780 | 3,260
Total |  | 14,636 | 14,635 | 17,158
Shortraker rockfish⁸ | W | 153 | 153 | n/a
| C | 353 | 353 | n/a
| E | 337 | 337 | n/a
Total |  | 843 | 843 | 1,124
Rougheye rockfish⁹ | W | 136 | 136 | n/a
| C | 611 | 611 | n/a
| E | 241 | 241 | n/a
Total |  | 988 | 988 | 1,148
Other rockfish¹⁰,¹¹ | W | 577 | 577 | n/a
| C | 386 | 386 | n/a
| WYK | 319 | 319 | n/a
| SEO | 2,872 | 200 | n/a
Total |  | 4,154 | 1,482 | 5,394
Northern rockfish¹¹,¹² | W | 1,439 | 1,439 | n/a
| C | 3,499 | 3,499 | n/a
| E | 0 | 0 | n/a
Total |  | 4,938 | 4,938 | 5,890
Pelagic shelf rockfish¹³ | W | 1,466 | 1,466 | n/a
| C | 3,325 | 3,325 | n/a
| WYK | 307 | 307 | n/a
| SEO | 444 | 444 | n/a
Total |  | 5,542 | 5,542 | 6,458
Thornyhead rockfish | W | 513 | 513 | n/a
| C | 989 | 989 | n/a
| E | 707 | 707 | n/a
Total |  | 2,209 | 2,209 | 2,945
Big skates¹⁴ | W | 695 | 695 | n/a
| C | 2,250 | 2,250 | n/a
| E | 599 | 599 | n/a
|  | 3,544 | 3,544 | 4,726
Longnose skates¹⁵ | W | 65 | 65 | n/a
| C | 1,969 | 1,969 | n/a
| E | 861 | 861 | n/a
|  | 2,895 | 2,895 | 3,860
Other skates¹⁶ | GW | 1,617 | 1,617 | 2,156
Demersal shelf rockfish¹⁷ | SEO | 410 | 410 | 650
Atka mackerel | GW | 4,700 | 1,500 | 6,200
Other species¹⁸ | GW | n/a | 4,500 | n/a
TOTAL¹⁹ |  | 490,327 | 269,912 | 615,879
¹. Regulatory areas and districts are defined at § 679.2.
². Pollock is apportioned in the Western/Central Regulatory Areas among three statistical areas. During the A season, the apportionment is based on an adjusted estimate of the relative distribution of pollock biomass of approximately 30 percent, 48 percent, and 22 percent in Statistical Areas 610, 620, and 630, respectively. During the B season, the apportionment is based on the relative distribution of pollock biomass at 30 percent, 59 percent, and 11 percent in Statistical Areas 610, 620, and 630, respectively. During the C and D seasons, the apportionment is based on the relative distribution of pollock biomass at 53 percent, 15 percent, and 32 percent in Statistical Areas 610, 620, and 630, respectively. Tables 5 and 6 list the seasonal apportionments. In the West Yakutat and Southeast Outside Districts of the Eastern Regulatory Area, pollock is not divided into seasonal allowances.
³. The annual Pacific cod TAC is apportioned 60% to an A season and 40% to a B season in the Western and Central Regulatory Areas of the GOA. Pacific cod is allocated 90% for processing by the inshore component and 10% for processing by the offshore component. Tables 7 and 8 list the 2007 and 2008 proposed seasonal apportionments and component allocations of TAC.
⁴. ″Deep-water flatfish″ means Dover sole, Greenland turbot, and deepsea sole.
⁵. ″Shallow-water flatfish″ means flatfish not including ″deep-water flatfish,″ flathead or arrowtooth flounder.
⁶. Sablefish is allocated to trawl and hook-and-line gears for 2007 and to trawl gear in 2008. Tables 3 and 4 list these amounts.
⁷. ″Pacific ocean perch″ means Sebastes alutus.
⁸. ″Shortraker rockfish″ means Sebastes borealis.
⁹. ″Rougheye rockfish″ means Sebastes aleutianus.
¹⁰. ″Other rockfish″ in the Western and Central Regulatory Areas and in the West Yakutat District means slope rockfish and demersal shelf rockfish. The category ″other rockfish″ in the SEO District means slope rockfish.
¹¹. ″Slope rockfish″ means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹². ″Northern rockfish″ means Sebastes polyspinis.
¹³. ″Pelagic shelf rockfish″ means Sebastes ciliatus (dark), S. variabilis (dusky), S. entomelas (widow), and S. flavidus (yellowtail).
¹⁴. Big skate means Raja binoculata.
¹⁵. Longnose skate means Raja rhina.
¹⁶. Other skates means Bathyraja spp.
¹⁷. ″Demersal shelf rockfish″ means Sebastes pinniger (canary), S. nebulosus (china), S. caurinus (copper), S. maliger (quillback), S. helvomaculatus (rosethorn), S. nigrocinctus (tiger), and S. ruberrimus (yelloweye).
¹⁸. ″Other species″ means sculpins, sharks, squid, and octopus. There is no OFL or ABC for ″other species.″ The FMP specifies that the amount for the ″other species″ category be set at an amount less than or equal to 5% of the combined TAC amounts for target species.
¹⁹. The total ABC and OFL is the sum of the ABCs and OFLs for assessed target species.

Table 2 - Final 2008 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska (values are rounded to the nearest metric ton)
(values are rounded to the nearest metric ton)
Species | Area¹ | ABC | TAC | OFL
Pollock² |  |  |  |
| Shumagin (610) | 30,308 | 30,308 | n/a
| Chirikof (620) | 25,313 | 25,313 | n/a
| Kodiak (630) | 17,995 | 17,995 | n/a
| WYK (640) | 1,694 | 1,694 | n/a
Subtotal | W/C/WYK | 75,310 | 75,310 | 105,490
| SEO (650) | 6,157 | 6,157 | 8,209
Total |  | 81,467 | 81,467 | 113,699
Pacific cod³ | W | 27,846 | 20,885 | n/a
| C | 39,270 | 29,453 | n/a
| E | 4,284 | 3,856 | n/a
Total |  | 71,400 | 54,194 | 86,000
Flatfish⁴ (deep-water) | W | 430 | 430 | n/a
| C | 4,296 | 4,296 | n/a
| WYK | 2,763 | 2,763 | n/a
| SEO | 1,494 | 1,494 | n/a
Total |  | 8,983 | 8,983 | 11,412
Rex sole | W | 1,122 | 1,122 | n/a
| C | 5,327 | 5,327 | n/a
| WYK | 1,014 | 1,014 | n/a
| SEO | 1,437 | 1,437 | n/a
Total |  | 8,900 | 8,900 | 11,600
Flathead sole | W | 11,464 | 2,000 | n/a
| C | 27,382 | 5,000 | n/a
| WYK | 2,198 | 2,198 | n/a
| SEO | 60 | 60 | n/a
Total |  | 41,104 | 9,258 | 51,146
Flatfish⁵(shallow-water) | W | 24,720 | 4,500 | n/a
| C | 24,258 | 13,000 | n/a
| WYK | 628 | 628 | n/a
| SEO | 1,844 | 1,844 | n/a
Total |  | 51,450 | 19,972 | 62,418
Arrowtooth flounder | W | 21,164 | 8,000 | n/a
| C | 141,673 | 30,000 | n/a
| WYK | 16,754 | 2,500 | n/a
| SEO | 7,172 | 2,500 | n/a
Total |  | 186,763 | 43,000 | 218,020
Sablefish⁶ | W | 2,458 | 2,458 | n/a
| C | 6,159 | 6,159 | n/a
| WYK | 2,269 | 2,269 | n/a
| SEO | 3,353 | 3,353 | n/a
Subtotal | E(WYK and SEO) | 5,622 | 5,622 | n/a
Total |  | 14,239 | 14,239 | 15,803
Pacific ocean perch⁷ | W | 4,291 | 4,291 | 5,030
| C | 7,694 | 7,694 | 9,019
| WYK | 1,153 | 1,153 | n/a
| SEO | 1,659 | 1,659 | n/a
Subtotal | E(WYK and SEO) | 2,812 | 2,812 | 3,296
Total |  | 14,797 | 14,797 | 17,345
Shortraker rockfish⁸ | W | 153 | 153 | n/a
| C | 353 | 353 | n/a
| E | 337 | 337 | n/a
Total |  | 843 | 843 | 1,124
Rougheye rockfish⁹ | W | 137 | 137 | n/a
| C | 614 | 614 | n/a
| E | 242 | 242 | n/a
Total |  | 993 | 993 | 1,197
Other rockfish¹⁰,¹¹ | W | 577 | 577 | n/a
| C | 386 | 386 | n/a
| WYK | 319 | 319 | n/a
| SEO | 2,872 | 200 | n/a
Total |  | 4,154 | 1,482 | 5,394
Northern rockfish¹¹,¹² | W | 1,383 | 1,383 | n/a
| C | 3,365 | 3,365 | n/a
| E | 0 | 0 | n/a
Total |  | 4,748 | 4,748 | 5,660
Pelagic shelf rockfish¹³ | W | 1,752 | 1,752 | n/a
| C | 3,973 | 3,973 | n/a
| WYK | 366 | 366 | n/a
| SEO | 531 | 531 | n/a
Total |  | 6,622 | 6,622 | 8,186
Thornyhead rockfish | W | 513 | 513 | n/a
| C | 989 | 989 | n/a
| E | 707 | 707 | n/a
Total |  | 2,209 | 2,209 | 2,945
Big skates¹⁴ | W | 695 | 695 | n/a
| C | 2,250 | 2,250 | n/a
| E | 599 | 599 | n/a
Total |  | 3,544 | 3,544 | 4,726
Longnose skates¹⁵ | W | 65 | 65 | n/a
| C | 1,969 | 1,969 | n/a
| E | 861 | 861 | n/a
Total |  | 2,895 | 2,895 | 3,860
Other skates¹⁶ | GW | 1,617 | 1,617 | 2,156
Demersal shelf rockfish¹⁷ | SEO | 410 | 410 | 650
Atka mackerel | GW | 4,700 | 1,500 | 6,200
Other species¹⁸ | GW | n/a | 4,500 | n/a
TOTAL¹⁹ |  | 511,838 | 286,173 | 629,541
¹. Regulatory areas and districts are defined at § 679.2.
². Pollock is apportioned in the Western/Central Regulatory Areas among three statistical areas. During the A season, the apportionment is based on an adjusted estimate of the relative distribution of pollock biomass of approximately 30 percent, 48 percent, and 22 percent in Statistical Areas 610, 620, and 630, respectively. During the B season, the apportionment is based on the relative distribution of pollock biomass at 30 percent, 59 percent, and 11 percent in Statistical Areas 610, 620, and 630, respectively. During the C and D seasons, the apportionment is based on the relative distribution of pollock biomass at 53 percent, 15 percent, and 32 percent in Statistical Areas 610, 620, and 630, respectively. Tables 5 and 6 list the seasonal apportionments. In the West Yakutat and Southeast Outside Districts of the Eastern Regulatory Area, pollock is not divided into seasonal allowances.
³. The annual Pacific cod TAC is apportioned 60% to an A season and 40% to a B season in the Western and Central Regulatory Areas of the GOA. Pacific cod is allocated 90% for processing by the inshore component and 10% for processing by the offshore component. Tables 7 and 8 list the 2007 and 2008 proposed seasonal apportionments and component allocations of TAC.
⁴. ″Deep-water flatfish″ means Dover sole, Greenland turbot, and deepsea sole.
⁵. ″Shallow-water flatfish″ means flatfish not including ″deep-water flatfish,″ flathead or arrowtooth flounder.
⁶. Sablefish is allocated to trawl and hook-and-line gears for 2007 and to trawl gear in 2008. Tables 3 and 4 list these amounts.
⁷. ″Pacific ocean perch″ means Sebastes alutus.
⁸. ″Shortraker rockfish″ means Sebastes borealis.
⁹. ″Rougheye rockfish″ means Sebastes aleutianus.
¹⁰. ″Other rockfish″ in the Western and Central Regulatory Areas and in the West Yakutat District means slope rockfish and demersal shelf rockfish. The category ″other rockfish″ in the SEO District means slope rockfish.
¹¹. ″Slope rockfish″ means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹². ″Northern rockfish″ means Sebastes polyspinis.
¹³. ″Pelagic shelf rockfish″ means Sebastes ciliatus (dark), S. variabilis (dusky), S. entomelas (widow), and S. flavidus (yellowtail).
¹⁴. Big skate means Raja binoculata.
¹⁵. Longnose skate means Raja rhina.
¹⁶. Other skates means Bathyraja spp.
¹⁷. ″Demersal shelf rockfish″ means Sebastes pinniger (canary), S. nebulosus (china), S. caurinus (copper), S. maliger (quillback), S. helvomaculatus (rosethorn), S. nigrocinctus (tiger), and S. ruberrimus (yelloweye).
¹⁸. ″Other species″ means sculpins, sharks, squid, and octopus. There is no OFL or ABC for ″other species.″ The FMP specifies that the amount for the ″other species″ category be set at an amount less than or equal to 5% of the combined TAC amounts for target species.
¹⁹. The total ABC and OFL is the sum of the ABCs and OFLs for assessed target species.

Apportionment of Reserves

Section 679.20(b)(2) requires 20 percent of each TAC for pollock, Pacific cod, flatfish, and the “other species” category be set aside in reserves for possible apportionment at a later date. In 2006, NMFS reapportioned all of the reserves in the final harvest specifications. For 2007 and 2008, NMFS proposed reapportionment of all the reserves in the proposed 2007 and 2008 harvest specifications published in the Federal Register on December 15, 2006 (71 FR 75437). NMFS received no public comments on the proposed reapportionments. For the final 2007 and 2008 harvest specifications, NMFS apportioned as proposed all of the reserves for pollock, Pacific cod, flatfish, and “other species.” Specifications of TAC shown in Tables 1 and 2 reflect apportionment of reserve amounts for these species and species groups.

Allocations of the Sablefish TAC Amounts to Vessels Using Hook-and-Line and Trawl Gear

Sections 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (§ 679.20(a)(1)). In recognition of the trawl ban in the SEO District of the Eastern Regulatory Area, the Council recommended and NMFS concurs with the allocation of 5 percent of the combined Eastern Regulatory Area sablefish TAC to trawl gear in the WYK District and the remainder to vessels using hook-and-line gear. As a result, NMFS allocates 100 percent of the sablefish TAC in the SEO District to vessels using hook-and-line gear. The Council recommended that hook-and-line sablefish TAC be established annually to ensure that the Individual Fishery Quota (IFQ) fishery is conducted concurrent with the halibut IFQ fishery and is based on the most recent survey information. This recommendation results in an allocation of 283 mt to trawl gear and 1,997 mt to hook-and-line gear in the WYK District and 3,370 mt to hook-and-line gear in the SEO District in 2007, and 281 mt to trawl gear in the WYK District in 2008. Table 3 lists the allocations of the 2007 sablefish TACs between hook-and-line and trawl gear. Table 4 lists the allocations of the 2008 sablefish TACs to trawl gear.

Table 3 - Final 2007 Sablefish TAC Specifications in the Gulf of Alaska and Allocations to Hook-and-Line and Trawl Gear
(values are rounded to the nearest metric ton)
Area/district | TAC | Hook-and-line allocation | Trawl allocation
Western | 2,470 | 1,976 | 494
Central | 6,190 | 4,952 | 1,238
West Yakutat | 2,280 | 1,997 | 283
Southeast Outside | 3,370 | 3,370 | 0
Total | 14,310 | 12,295 | 2,015

Table 4 - Final 2008 Sablefish TAC Specifications in the Gulf of Alaska and Allocation to Trawl Gear
(values are rounded to the nearest metric ton)
Area/district | TAC | Hook-and-line allocation | Trawl allocation
Western | 2,458 | n/a | 492
Central | 6,159 | n/a | 1,232
West Yakutat | 2,269 | n/a | 281
Southeast Outside | 3,353 | n/a | 0
Total | 14,239 | n/a | 2,005
¹ The Council recommended that specifications for the hook-and-line gear sablefish IFQ fisheries be limited to 1 year.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630. In the A and B seasons, the apportionments are in proportion to the distribution of pollock biomass based on the four most recent NMFS winter surveys. In the C and D seasons, the apportionments are in proportion to the distribution of pollock biomass based on the four most recent NMFS summer surveys. For 2007 and 2008, the Council recommends averaging the winter and summer distribution of pollock in the Central Regulatory Area for the A season. The average is intended to reflect the distribution of pollock and the performance of the fishery in the area during the A season for the 2007 and 2008 fishing years. Within any fishing year, the underage or overage of a seasonal allowance may be added to, or subtracted from, subsequent seasonal allowances in a manner to be determined by the Regional Administrator. The rollover amount of unharvested pollock is limited to 20 percent of the seasonal apportionment for the statistical area. Any unharvested pollock above the 20 percent limit could be further distributed to the other statistical areas, in proportion to the estimated biomass in the subsequent season in those statistical areas (§ 679.20(a)(5)(iv)(B)). The WYK and SEO District pollock TACs of 1,398 mt and 6,157 mt in 2007 and 1,694 mt and 6,157 mt in 2008, respectively, are not allocated by season.

Section 679.20(a)(6)(i) requires the allocation of 100 percent of the pollock TAC in all regulatory areas and all seasonal allowances to vessels catching pollock for processing by the inshore component after subtracting amounts projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed by § 679.20(e) and (f). At this time, these incidental catch amounts are unknown and will be determined during the fishing year.

The 2007 and 2008 seasonal biomass distribution of pollock in the Western and Central Regulatory Areas, area apportionments, and seasonal apportionments for the A, B, C, and D seasons are summarized in Tables 5 and 6, except that amounts of pollock for processing by the inshore and offshore components are not shown.

Table 5 - Final 2007 Distribution of Pollock in the Central and Western Regulatory Areas of the Gulf of Alaska; Seasonal Biomass Distribution, Area Apportionments; and Seasonal Allowances of Annual TAC
(values are rounded to the nearest metric ton)
Area Apportionments Resulting From Seasonal Distribution of Biomass: Season | Area Apportionments Resulting From Seasonal Distribution of Biomass: Shumagin (Area 610) | Area Apportionments Resulting From Seasonal Distribution of Biomass: Chirikof (Area 620) | Area Apportionments Resulting From Seasonal Distribution of Biomass: Kodiak (Area 630) | Area Apportionments Resulting From Seasonal Distribution of Biomass: Total
A | 4,511 (29.70%) | 7,357 (48.44%) | 3,320 (21.86%) | 15,188 (100%)
B | 4,511 (29.70%) | 8,924 (58.76%) | 1,753 (11.54%) | 15,188 (100%)
C | 7,995 (52.64%) | 2,304 (15.17%) | 4,889 (32.19%) | 15,188 (100%)
D | 7,995 (52.64%) | 2,304 (15.17%) | 4,889 (32.19%) | 15,188 (100%)
Annual Total | 25,012 | 20,890 | 14,850 | 60,752

Table 6 - Final 2008 Distribution of Pollock in the Central and Western Regulatory Areas of the Gulf of Alaska; Seasonal Biomass Distribution, Area Apportionments; and Seasonal Allowances of Annual TAC
(values are rounded to the nearest metric ton)
Area Apportionments Resulting From Seasonal Distribution of Biomass: Season | Area Apportionments Resulting From Seasonal Distribution of Biomass: Shumagin (Area 610) | Area Apportionments Resulting From Seasonal Distribution of Biomass: Chirikof (Area 620) | Area Apportionments Resulting From Seasonal Distribution of Biomass: Kodiak (Area 630) | Area Apportionments Resulting From Seasonal Distribution of Biomass: Total
A | 5,466 (29.70%) | 8,915 (48.44%) | 4,023 (21.86%) | 18,404 (100%)
B | 5,466 (29.70%) | 10,814 (58.76%) | 2,124 (11.54%) | 18,404 (100%)
C | 9,688 (52.64%) | 2,792 (15.17%) | 5,924 (32.19%) | 18,404 (100%)
D | 9,688 (52.64%) | 2,792 (15.17%) | 5,924 (32.19%) | 18,404 (100%)
Annual Total | 30,308 | 25,313 | 17,995 | 73,616

Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)). After subtracting incidental catch from the A season, 60 percent of the annual TAC will be available as a DFA during the A season for the inshore and offshore components. The remaining 40 percent of the annual TAC will be available for harvest during the B season. The seasonal allocations will be apportioned between the inshore and offshore components, as provided in § 679.20(a)(6)(ii). Under § 679.20(a)(11)(ii), any overage or underage of the Pacific cod allowance from the A season may be subtracted from or added to the subsequent B season allowance.

Section 679.20(a)(6)(ii) requires allocation of the TAC apportionments of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. Tables 7 and 8 list the seasonal apportionments and allocations of the 2007 and 2008 Pacific cod TACs.

Table 7 - Final 2007 Seasonal Apportionments and Allocation of Pacific Cod TAC Amounts in the Gulf of Alaska; Allocations for Processing by the Inshore and Offshore Components
(values are rounded to the nearest metric ton)
Season | Regulatory area | TAC | Component allocation: Inshore (90%) | Component allocation: Offshore (10%)
| Western | 20,141 | 18,127 | 2,014
A season (60%) |  | 12,085 | 10,876 | 1,208
B season (40%) |  | 8,056 | 7,251 | 806
| Central | 28,405 | 25,565 | 2,840
A season (60%) |  | 17,043 | 15,339 | 1,704
B season (40%) |  | 11,362 | 10,226 | 1,136
| Eastern | 3,718 | 3,346 | 372
Total | 52,264 | 47,038 | 5,226

Table 8 - Final 2008 Seasonal Apportionments and Allocation of Pacific Cod TAC Amounts in the Gulf of Alaska; Allocations for Processing by the Inshore and Offshore Components
(values are rounded to the nearest metric ton)
Season | Regulatory area | TAC | Component allocation: Inshore (90%) | Component allocation: Offshore (10%)
| Western | 20,885 | 18,796 | 2,089
A season (60%) |  | 12,531 | 11,278 | 1,253
B season (40%) |  | 8,354 | 7,519 | 835
| Central | 29,453 | 26,508 | 2,945
A season (60%) |  | 17,672 | 15,905 | 1,767
B season (40%) |  | 11,781 | 10,603 | 1,178
| Eastern | 3,856 | 3,470 | 386
Total | 54,194 | 48,775 | 5,419

Demersal Shelf Rockfish (DSR)

In a commercial fisheries news release dated December 18, 2006, the Alaska Department of Fish and Game (ADF&G) announced the closure of directed fishing for DSR in the SEO District in 2007. The ADF&G estimates that the incidental catch mortality in the commercial halibut fishery will require the entire commercial TAC; therefore, a directed fishery in the SEO District cannot be prosecuted (5 AAC 28.160). NMFS reminds all fishermen that full retention of all DSR by federally permitted catcher vessels using hook-and-line or jig gear fishing for groundfish and Pacific halibut in the SEO District of the GOA is required (§ 679.20(j)).

Apportionments to the Central GOA Rockfish Pilot Program

Section 679.81(a)(2) requires the allocation of the primary rockfish species after deducting incidental catch needs in other directed groundfish fisheries in the Central Regulatory Area. Five percent (2.5 percent to trawl gear and 2.5 percent to fixed gear) of the final TACs for Pacific ocean perch, northern rockfish, and pelagic shelf rockfish in the Central Regulatory Area are allocated to the entry level rockfish fishery and the remaining 95 percent to those vessels eligible to participate in the Rockfish Program as described in the proposed and final rules for the Rockfish Program (71 FR 33040, June 7, 2006, and 71 FR 67210, November 20, 2006, respectively). NMFS is setting aside in 2007 and 2008 incidental catch amounts of 330 mt of Pacific ocean perch, 120 mt of northern rockfish, and 100 mt of pelagic shelf rockfish for other directed fisheries in the Central Regulatory Area. These amounts are based on the 2003 through 2006 average incidental catch in the Central Regulatory Area by these other groundfish fisheries.

Halibut PSC Limits

Section 679.21(d) establishes the annual halibut PSC limit apportionments to trawl, hook-and-line and pot gear. In December 2006, the Council recommended that NMFS maintain the 2006 halibut PSC limits of 2,000 mt for the trawl fisheries and 300 mt for the hook-and-line fisheries. Ten mt of the hook-and-line limit is further allocated to the DSR fishery in the SEO District. The DSR fishery is defined at § 679.21(d)(4)(iii)(A). This fishery has been apportioned 10 mt in recognition of its small scale harvests. Most vessels in the DSR fishery are less than 60 ft (18.3 m) length overall (LOA) and are exempt from observer coverage. Therefore, observer data are not available to verify actual bycatch amounts. NMFS assumes the halibut bycatch in the DSR fishery is low because of the short soak times for the gear and duration of the DSR fishery. Also, the DSR fishery occurs in the winter when less overlap occurs in the distribution of DSR and halibut.

Section 679.21(d)(4)(i) authorizes the exemption of specified non-trawl fisheries from the halibut PSC limit. NMFS, after consultation with the Council, exempts pot gear, jig gear, and the sablefish IFQ hook-and-line gear fishery from the non-trawl halibut limit for 2007 and 2008. The Council recommended these exemptions because (1) the pot gear fisheries have low annual halibut bycatch mortality (averaging 18 mt annually from 2001 through 2006 and 21 mt in 2006 alone); (2) the halibut and sablefish IFQ fisheries have low halibut bycatch mortality because the IFQ program requires retention of legal-sized halibut by vessels using hook-and-line gear if a halibut IFQ permit holder is aboard and is holding unused halibut IFQ; and (3) halibut mortality for the jig gear fisheries is assumed to be negligible. Halibut mortality is assumed to be negligible in the jig gear fisheries given the small amount of groundfish harvested by jig gear (averaging 323 mt annually from 2001 through 2006 and 128 mt in 2006 alone), the selective nature of jig gear, and the likelihood that halibut caught with jig gear have high survival rates when released.

Section 679.21(d)(5) provides NMFS authority to seasonally apportion the halibut PSC limits after consultation with the Council. The FMP and regulations require the Council and NMFS consider the following information in seasonally apportioning halibut PSC limits: (1) seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2006 and 2007 groundfish harvest specifications (71 FR 10870, March 3, 2006) summarized the Council and NMFS' findings with respect to each of these FMP considerations. The Council and NMFS' findings for 2007 and 2008 are unchanged from 2006. The opening dates and halibut PSC limitations for vessels using trawl gear participating in the Rockfish Program in the Central Regulatory Area are described in the final rule to implement the Rockfish Program (71 FR 67210, November 20, 2006).

NMFS concurs with the Council's recommendations described here and listed in Table 9. Section 679.21, paragraphs (d)(5)(iii) and (iv) specify that any underages or overages in a seasonal apportionment of a PSC limit will be deducted from or added to the next respective seasonal apportionment within the 2007 and 2008 fishing years. The information to establish the halibut PSC limits was obtained from the 2006 SAFE report, NMFS, ADF&G, the International Pacific Halibut Commission (IPHC), and public testimony.

Table 9 - Final 2007 and 2008 Pacific Halibut PSC Limits, Allowances, and Apportionments
(values are in metric tons)
Trawl gear: Dates | Trawl gear: Amount | Hook-and-line gear¹: Other than DSR: Dates | Hook-and-line gear¹: Other than DSR: Amount | Hook-and-line gear¹: DSR: Dates | Hook-and-line gear¹: DSR: Amount
January 20-April 1 | 550 (27.5%) | January 1-June 10 | 250 (86%) | January 1-December 31 | 10 (100%)
April 1-July 1 | 400 (20%) | June 10-September 1 | 5 (2%) |  |
July 1-September 1 | 600 (30%) | September 1-December 31 | 35 (12%) |  |
September 1-October 1 | 150 (7.5%) | n/a | n/a |  |
October 1-December 31 | 300 (15%) | n/a | n/a |  |
Total | 2,000 (100%) | n/a | 290 (100%) |  | 10 (100%)
¹ The Pacific halibut PSC limit for hook-and-line gear is allocated to the demersal shelf rockfish (DSR) fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species complex, comprised of sablefish, rockfish, deep-water flatfish, rex sole and arrowtooth flounder; and (2) a shallow-water species complex, comprised of pollock, Pacific cod, shallow-water flatfish, flathead sole, Atka mackerel, skates, and “other species” (§ 679.21(d)(3)(iii)). Table 10 lists the final 2006 and 2007 apportionments for these two fishery complexes.

Table 10 - Final 2006 and 2007 Apportionment of Pacific Halibut PSC Trawl Limits Between the Trawl Gear Deep-Water Species Complex and the Shallow-Water Species Complex
(values are in metric tons)
Season | Shallow-water | Deep-water | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31¹ | n/a | n/a | 300
Total | n/a | n/a | 2,000
¹ No apportionment between shallow-water and deep-water trawl fishery categories during the fifth season (October 1 through December 31).

Estimated Halibut Bycatch in Prior Years

The best available information on estimated halibut bycatch is data collected by observers during 2006. The calculated halibut bycatch mortality by trawl, hook and line, and pot gear through December 31, 2006, is 2,002 mt, 290 mt, and 21 mt, respectively, for a total halibut mortality of 2,313 mt.

Halibut bycatch restrictions seasonally constrained trawl gear fisheries during the 2006 fishing year. Trawling during the second season closed for the deep-water species category April 27 (71 FR 25781, May 2, 2006) and during the fourth season September 5 (71 FR 52754, September 7, 2006). Trawling during the first season closed for the shallow-water species category from February 23 to February 27 (71 FR 9977, February 28, 2006, and 71 FR 10625, March 2, 2006) and during the second season on June 10 (71 FR 34021, June 13, 2006). To prevent exceeding the fourth season halibut PSC limit for the shallow-water species category, directed fishing using trawl gear was limited to four 12-hour open periods on September 1 (71 FR 51784, August 31, 2006), September 6 (71 FR 53339, September 11, 2006), September 20 (71 FR 55134, September 21, 2006), and September 25 (71 FR 56898, September 28, 2006). Trawling for all groundfish targets (with the exception of pollock by vessels using pelagic trawl gear) was closed for the fifth season on October 8 (71 FR 60078, October 12, 2006). Fishing for groundfish using hook-and-line gear remained open in 2006 as the halibut PSC limit was not reached. The amount of groundfish that trawl gear might have harvested if halibut PSC limits had not restricted the 2006 season is unknown.

Expected Changes in Groundfish Stocks and Catch

The final 2007 and 2008 ABCs for Pacific cod, deep-water flatfish, flathead sole, arrowtooth flounder, Pacific ocean perch, and pelagic shelf rockfish are higher than those established for 2006. However, the final 2007 and 2008 ABCs for pollock, sablefish, rex sole, and northern rockfish are lower than those established for 2006. For the remaining target species, the Council recommended that ABC levels remain unchanged from 2006. More information on these changes is included in the final SAFE report (November 2006) and in the Council, SSC, and AP minutes from the December 2006 meeting available from the Council (see ADDRESSES).

In the GOA, the total final TAC amounts are 269,912 mt for 2007, and 286,173 mt for 2008, a decrease of about 8 percent in 2007 and 2 percent in 2008 from the 2006 TAC total of 291,950 mt. Table 11 compares the final TACs for 2006 to the final TACs for 2007 and 2008.

Table 11 - Comparison of Final 2006 and Final 2007 and 2008 Total Allowable Catch in the Gulf of Alaska
(values are rounded to the nearest metric ton)
Species | 2006 | 2007 | 2008
Pollock | 86,807 | 68,307 | 81,467
Pacific cod | 52,264 | 52,264 | 54,194
Sablefish | 14,840 | 14,310 | 14,239
Rex sole | 9,200 | 9,100 | 8,900
“Other species” | 13,856 | 4,500 | 4,500
Deep-water flatfish | 8,665 | 8,707 | 8,983
Flathead sole | 9,077 | 9,148 | 9,258
Arrowtooth flounder | 38,000 | 43,000 | 43,000
Pacific ocean perch | 14,261 | 14,636 | 14,797
Northern rockfish | 5,091 | 4,938 | 4,748
Pelagic shelf rockfish | 5,436 | 5,542 | 6,622

Current Estimates of Halibut Biomass and Stock Condition

The most recent halibut stock assessment was conducted by the IPHC in December 2006 for the 2007 commercial fishery. The 2006 assessment contains substantial changes from the previous year. Information accruing from ongoing passive integrated transponder (PIT) tag recoveries, as well as inconsistencies in the traditional closed-area stock assessments for some areas has prompted the IPHC to examine stock assessment frameworks. It had been assumed that once the halibut reached legal commercial size there was little movement between regulatory areas. PIT tag recoveries indicate greater movement between regulatory areas than previously thought. The IPHC then developed a coast wide assessment based on a single stock. The assessment adopted a coast wide harvest rate of 20 percent of the exploitable biomass overall but higher for some areas with net immigration. The IPHC staff have recommended a harvest rate of 25 percent in Area 2C, 20 percent in Areas 3A, 3B, and 4A, and 15 percent in Areas 4 B, C, D, and E. The current exploitable halibut biomass in Alaska for 2007 was estimated to be 169,000 mt, down from 189,543 mt in 2006. The female spawning biomass remains far above the minimum which occurred in the 1970s.

The exploitable biomass of the Pacific halibut stock peaked at 326,520 mt in 1988. According to the IPHC, the long-term average reproductive biomass for the Pacific halibut resource was estimated at 118,000 mt. Long-term average yield was estimated at 26,980 mt, round weight. The species is fully utilized. Recent average catches (1994-2004) in the commercial halibut fisheries in Alaska have averaged 34,241 mt, round weight. Catch in waters off Alaska is 27 percent higher than long-term potential yield for the entire halibut stock, reflecting the good condition of the Pacific halibut resource. In December 2006, the IPHC recommended Alaska commercial catch limits totaling 33,560 mt, round weight, in 2007, a slight increase from 33,421 mt in 2006. Through December 31, 2006, commercial hook-and-line harvests of halibut off Alaska totaled 31,581 mt, round weight.

Additional information on the Pacific halibut stock assessment may be found in the IPHC's 2006 Pacific halibut stock assessment (December 2006), available on the IPHC website at http://www.iphc.washington.edu. The IPHC will consider the 2006 Pacific halibut assessment for 2007 at its January 2007 annual meeting when it sets the 2007 commercial halibut fishery quotas.

Other Factors

The proposed 2006 and 2007 harvest specifications (71 FR 75437, December 15, 2006) discuss potential impacts of expected fishing for groundfish on halibut stocks, as well as methods available for, and costs of, reducing halibut bycatch in the groundfish fisheries.

Halibut Discard Mortality Rates

The Council recommends and NMFS concurs that the halibut discard mortality rates (DMRs) recommended by the staff of the IPHC for the 2007 and 2008 GOA groundfish fisheries be used to monitor the 2007 and 2008 GOA halibut bycatch mortality limits. The IPHC recommended use of long-term average DMRs for the 2007 and 2008 groundfish fisheries. The IPHC will analyze observer data annually and recommend changes to the DMRs where a DMR shows large variation from the mean. Most of the IPHC's assumed DMRs were based on an average of mortality rates determined from NMFS observer data collected between 1996 and 2005. Long-term average DMRs were not available for some fisheries, so rates from the most recent years were used. For the “other species” and skate fisheries, where insufficient mortality data are available, the mortality rate of halibut caught in the Pacific cod fishery for that gear type was recommended as a default rate. The GOA DMRs for 2007 and 2008 are revised from those used in 2006. The DMRs for hook-and-line targeted fisheries range from 10 to 14 percent. The DMRs for trawl target fisheries range from 53 to 76 percent. The DMRs for pot target fisheries are 16 percent. The final DMRs for 2007 and 2008 are listed in Table 12. A copy of the document justifying these DMRs is available from the Council (see ADDRESSES) and is discussed in Appendix A of the final 2006 SAFE report, dated November 2006.

Table 12 - Final 2007 and 2008 Halibut Discard Mortality Rates for Vessels Fishing in the Gulf of Alaska
(values are percent of halibut bycatch assumed to be dead)
Gear | Target | Mortality Rate (%)
Hook-and-line | Other species | 14
| Skates | 14
| Pacific cod | 14
| Rockfish | 10
Trawl | Arrowtooth flounder | 69
| Atka mackerel | 60
| Deep-water flatfish | 53
| Flathead sole | 61
| Non-pelagic pollock | 59
| Other species | 63
| Skates | 63
| Pacific cod | 63
| Pelagic pollock | 76
| Rex sole | 63
| Rockfish | 67
| Sablefish | 65
| Shallow-water flatfish | 71
Pot | Other species | 16
| Skates | 16
| Pacific cod | 16

Non-exempt American Fisheries Act (AFA) Catcher Vessel Groundfish Harvest and PSC Sideboard Limitations

Section 679.64 established groundfish harvesting and processing sideboard limitations on AFA catcher/processors and catcher vessels in the GOA. These sideboard limits are necessary to protect the interests of fishermen and processors who have not directly benefitted from the AFA from fishermen and processors who have received exclusive harvesting and processing privileges under the AFA. Listed AFA catcher/processors are prohibited from harvesting any species of fish in the GOA (§ 679.7(k)(1)(ii)). The listed AFA catcher/processors are also prohibited from processing any pollock in the GOA and any groundfish harvested in Statistical Area 630 of the GOA (§ 679.7(k)(1)(iv)). AFA catcher vessels less than 125 ft (38.1 m) LOA whose annual Bering Sea and Aleutian Islands pollock landings totaled less than 5,100 mt and that made 40 or more GOA groundfish landings from 1995 through 1997 are exempt from sideboard limits (§ 679.64(b)(2)(ii)).

Sideboard limits for non-exempt AFA catcher vessels in the GOA are based on their traditional harvest levels of TAC in groundfish fisheries covered by the GOA FMP. Section 679.64(b)(3)(iii) establishes the groundfish sideboard limitations in the GOA based on the retained catch of non-exempt AFA catcher vessels of each sideboard species from 1995 through 1997 divided by the TAC for that species over the same period. These amounts are listed in Table 13 for 2007 and in Table 14 for 2008. All catch of sideboard species made by non-exempt AFA catcher vessels, whether as targeted catch or incidental catch, will be deducted from the sideboard limits in Tables 13 and 14.

Table 13 - Final 2007 GOA Non-Exempt American Fisheries Act Catcher Vessel (CV) Groundfish Harvest Sideboard Limitations
(values are in metric tons)
Species | Apportionments and allocations by area/season/processor/gear | Ratio of 1995-1997 non-exempt AFA CV catch to 1995-1997 TAC | 2007 TAC | 2007 non-exempt AFA catcher vessel sideboard
Pollock | A Season (W/C areas only) |  |  |
| January 20 - February 25 |  |  |
| Shumagin (610) | 0.6112 | 4,511 | 2,757
| Chirikof (620) | 0.1427 | 7,357 | 1,050
| Kodiak (630) | 0.2438 | 3,320 | 809
| B Season (W/C areas only) |  |  |
| March 10 - May 31 |  |  |
| Shumagin (610) | 0.6112 | 4,511 | 2,757
| Chirikof (620) | 0.1427 | 8,924 | 1,273
| Kodiak (630) | 0.2438 | 1,753 | 427
| C Season (W/C areas only) |  |  |
| August 25 - September 15 |  |  |
| Shumagin (610) | 0.6112 | 7,995 | 4,887
| Chirikof (620) | 0.1427 | 2,304 | 329
| Kodiak (630) | 0.2438 | 4,889 | 1,192
| D Season (W/C areas only) |  |  |
| October 1 - November 1 |  |  |
| Shumagin (610) | 0.6112 | 7,995 | 4,887
| Chirikof (620) | 0.1427 | 2,304 | 329
| Kodiak (630) | 0.2438 | 4,889 | 1,192
| Annual |  |  |
| WYK (640) | 0.3499 | 1,398 | 489
| SEO (650) | 0.3499 | 6,157 | 2,154
Pacific cod | A Season¹ |  |  |
| January 1 - June 10 |  |  |
| W inshore | 0.1423 | 10,876 | 1,548
| W offshore | 0.1026 | 1,208 | 124
| C inshore | 0.0722 | 15,339 | 1,107
| C offshore | 0.0721 | 1,704 | 123
| B Season² |  |  |
| September 1 - December 31 |  |  |
| W inshore | 0.1423 | 7,251 | 1,032
| W offshore | 0.1026 | 806 | 83
| C inshore | 0.0722 | 10,226 | 738
| C offshore | 0.0721 | 1,136 | 82
| Annual |  |  |
| E inshore | 0.0079 | 3,346 | 26
| E offshore | 0.0078 | 372 | 3
Flatfish | W | 0 | 420 | 0
deep-water | C | 0.0670 | 4,163 | 279
| E | 0.0171 | 4,124 | 71
Rex sole | W | 0.0010 | 1,147 | 1
| C | 0.0402 | 5,466 | 219
| E | 0.0153 | 2,507 | 38
Flathead sole | W | 0.0036 | 2,000 | 7
| C | 0.0261 | 5,000 | 131
| E | 0.0048 | 2,148 | 10
Flathead shallow-water | W | 0.0156 | 4,500 | 70
| C | 0.0598 | 13,000 | 777
| E | 0.0126 | 2,472 | 31
Arrowtooth flounder | W | 0.0021 | 8,000 | 17
| C | 0.0309 | 30,000 | 927
| E | 0.0020 | 5,000 | 10
Sablefish | W trawl gear | 0 | 494 | 0
| C trawl gear | 0.0720 | 1,238 | 89
| E trawl gear | 0.0488 | 283 | 14
Pacific ocean perch | W | 0.0623 | 4,244 | 264
| C | 0.0866 | 7,612 | 659
| E | 0.0466 | 2,780 | 130
Shortraker rockfish | W | 0 | 153 | 0
| C | 0.0237 | 353 | 8
| E | 0.0124 | 337 | 4
Rougheye rockfish | W | 0 | 136 | 0
| C | 0.0237 | 611 | 14
| E | 0.0124 | 241 | 3
Other rockfish | W | 0.0034 | 557 | 2
| C | 0.2065 | 386 | 80
| E | 0 | 519 | 0
Northern rockfish | W | 0.0003 | 1,439 | 0
| C | 0.0336 | 3,499 | 128
Pelagic shelf rockfish | W | 0.0001 | 1,466 | 0
| C | 0 | 3,325 | 0
| E | 0.0067 | 751 | 5
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Longnose skates | W | 0.0090 | 65 | 1
| C | 0.0090 | 1,969 | 18
| E | 0.0090 | 861 | 8
Other skates | GW | 0.0090 | 1,617 | 15
DSR | SEO | 0,0020 | 410 | 1
Atka mackerel | Gulfwide | 0.0309 | 1,500 | 46
Other species | Gulfwide | 0.0090 | 4,500 | 41
¹ The Pacific cod A season for trawl gear does not open until January 20.
² The Pacific cod B season for trawl gear closes November 1.

Table 14 - Final 2008 GOA Non-Exempt American Fisheries Act Catcher Vessel (CV) Groundfish Harvest Sideboard Limitations
(values are in metric tons)
Species | Apportionments and allocations by area/season/processor/gear | Ratio of 1995-1997 non-exempt AFA CV catch to 1995-1997 TAC | 2008 TAC | 2008 non-exempt AFA CV sideboard limit
Pollock | A Season (W/C areas only) |  |  |
| January 20 - February 25 |  |  |
| Shumagin (610) | 0.6112 | 5,466 | 3,341
| Chirikof (620) | 0.1427 | 8,915 | 1,272
| Kodiak (630) | 0.2438 | 4,023 | 981
| B Season (W/C areas only) |  |  |
| March 10 - May 31 |  |  |
| Shumagin (610) | 0.6112 | 5,466 | 3,341
| Chirikof (620) | 0.1427 | 10,814 | 1,543
| Kodiak (630) | 0.2438 | 2,124 | 518
| C Season (W/C areas only) |  |  |
| August 25 - September 15 |  |  |
| Shumagin (610) | 0.6112 | 9,688 | 5,921
| Chirikof (620) | 0.1427 | 2,304 | 329
| Kodiak (630) | 0.2438 | 5,924 | 1,444
| D Season (W/C areas only) |  |  |
| October 1 - November 1 |  |  |
| Shumagin (610) | 0.6112 | 9,688 | 5,921
| Chirikof (620) | 0.1427 | 2,304 | 329
| Kodiak (630) | 0.2438 | 5,924 | 1,444
| Annual |  |  |
| WYK (640) | 0.3499 | 1,694 | 593
| SEO (650) | 0.3499 | 6,157 | 2,154
Pacific cod | A Season¹ |  |  |
| January 1 - June 10 |  |  |
| W inshore | 0.1423 | 11,278 | 1,605
| W offshore | 0.1026 | 1,253 | 129
| C inshore | 0.0722 | 15,905 | 1,148
| C offshore | 0.0721 | 1,767 | 127
| B Season² |  |  |
| September 1 - December 31 |  |  |
| W inshore | 0.1423 | 7,519 | 1,070
| W offshore | 0.1026 | 835 | 86
| C inshore | 0.0722 | 10,603 | 766
| C offshore | 0.0721 | 1,178 | 85
| Annual |  |  |
| E inshore | 0.0079 | 3,470 | 27
| E offshore | 0.0078 | 386 | 3
Flatfish | W | 0 | 430 | 0
deep-water | C | 0.0670 | 4,296 | 288
| E | 0.0171 | 4,257 | 73
Rex sole | W | 0.0010 | 1,122 | 1
| C | 0.0402 | 5,327 | 214
| E | 0.0153 | 2,451 | 38
Flathead sole | W | 0.0036 | 2,000 | 7
| C | 0.0261 | 5,000 | 131
| E | 0.0048 | 2,258 | 11
Flathead shallow-water | W | 0.0156 | 4,500 | 70
| C | 0.0598 | 13,000 | 777
| E | 0.0126 | 2,472 | 31
Arrowtooth flounder | W | 0.0021 | 8,000 | 17
| C | 0.0309 | 30,000 | 927
| E | 0.0020 | 5,000 | 10
Sablefish | W trawl gear | 0 | 492 | 0
| C trawl gear | 0.0720 | 1,232 | 89
| E trawl gear | 0.0488 | 281 | 14
Pacific ocean perch | W | 0.0623 | 4,291 | 267
| C | 0.0866 | 7,694 | 666
| E | 0.0466 | 2,812 | 131
Rougheye rockfish | W | 0 | 153 | 0
| C | 0.0237 | 353 | 8
| E | 0.0124 | 337 | 4
Shortraker rockfish | W | 0 | 137 | 0
| C | 0.0237 | 614 | 15
| E | 0.0124 | 242 | 3
Other rockfish | W | 0.0034 | 577 | 2
| C | 0.2065 | 386 | 80
| E | 0 | 519 | 0
Northern rockfish | W | 0.0003 | 1,383 | 0
| C | 0.0336 | 3,365 | 123
Pelagic shelf rockfish | W | 0.0001 | 1,752 | 0
| C | 0 | 3,973 | 0
| E | 0.0067 | 897 | 6
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Longnose skates | W | 0.0090 | 65 | 1
| C | 0.0090 | 1,969 | 18
| E | 0.0090 | 861 | 8
Other skates | GW | 0.0090 | 1,617 | 15
DSR | SEO | 0,0020 | 410 | 1
Atka mackerel | Gulfwide | 0.0309 | 1,500 | 46
Other species | Gulfwide | 0.0090 | 4,500 | 41
¹ The Pacific cod A season for trawl gear does not open until January 20.
² The Pacific cod B season for trawl gear closes November 1.

The PSC sideboard limits for non-exempt AFA catcher vessels in the GOA are based on the aggregate retained groundfish catch by non-exempt AFA catcher vessels in each PSC target category from 1995 through 1997 divided by the retained catch of all vessels in that fishery from 1995 through 1997 (§ 679.64(b)(4)). Table 15 lists these amounts.

Table 15 - Final 2007 and 2008 Non-Exempt American Fisheries Act Catcher Vessel Prohibited Species Catch (PSC) Limits for the GOA
PSC species | Season | Target fishery | Ratio of 1995-1997 non-exempt AFA CV retained catch to total retained catch | 2007 and 2008 PSC limit (mt) | 2007 and 2008 non-exempt AFA CV PSC limit (mt)
Halibut | Trawl 1st seasonal allowance | shallow-water | 0.34 | 450 | 153
| January 20 - April 1 | deep-water | 0.07 | 100 | 7
| Trawl 2nd seasonal allowance | shallow-water | 0.34 | 100 | 34
| April 1- July 1 | deep-water | 0.07 | 300 | 21
| Trawl 3rd seasonal allowance | shallow-water | 0.34 | 200 | 68
| July 1 - September 1 | deep-water | 0.07 | 400 | 28
| Trawl 4th seasonal allowance | shallow-water | 0.34 | 150 | 51
| September 1 - October 1 | deep-water | 0.07 | 0 | 0
| Trawl 5th seasonal allowance | all targets | 0.205 | 300 | 61
| October 1 - December 31 |  |  |  |

Non-AFA Crab Vessel Groundfish Harvest Limitations

Section 680.22 establishes groundfish catch limits for vessels with a history of participation in the Bering Sea snow crab fishery from using the increased flexibility provided by the Crab Rationalization Program to expand their level of participation in the GOA groundfish fisheries. These sideboard limits restrict these vessels' catch to their collective historical landings in each GOA groundfish fishery (except the fixed-gear sablefish fishery). Sideboard limits also will apply to catch made using a License Limitation Program (LLP) license derived from the history of a restricted vessel, even if that LLP is used on another vessel.

Sideboard limits for non-AFA crab vessels in the GOA are based on their traditional harvest levels of TAC in groundfish fisheries covered by the GOA FMP. Section 680.22 (d) and (e) base the groundfish sideboard limitations in the GOA on the retained catch by non-AFA crab vessels of each sideboard species from 1996 through 2000 divided by the total retained harvest of that species over the same period. These amounts are listed in Table 16 for 2007 and in Table 17 for 2008. All targeted or incidental catch of sideboard species made by non-AFA crab vessels will be deducted from the sideboard limits in Tables 16 and 17. Vessels exempt from Pacific cod sideboards are those that landed less than 45,359 kg of Bering Sea snow crab and more than 500 mt of groundfish (in round weight equivalents) from the GOA between January 1, 1996, and December 31, 2000, and any vessel named on an LLP that was generated in whole or in part by the fishing history of a vessel meeting the criteria in § 680.22(a)(3).

Table 16 - Final 2007 GOA Non-American Fisheries Act Crab Vessel Groundfish Harvest Sideboard Limitations
(Values are rounded to nearest metric ton)
Species | Apportionments and allocations by area/season/processor/gear | Ratio of 1996-2000 non-AFA crab vessel catch to 1996-2000 total harvest | Proposed 2007 TAC | 2007 non-AFA crab vessel sideboard limit
Pollock | A Season (W/C areas only) |  |  |
| January 20 - March 10 |  |  |
| Shumagin (610) | 0.0098 | 4,511 | 44
| Chirikof (620) | 0.0031 | 7,357 | 23
| Kodiak (630) | 0.0002 | 3,320 | 1
| B Season (W/C areas only) |  |  |
| March 10 - May 31 |  |  |
| Shumagin (610) | 0.0098 | 4,511 | 44
| Chirikof (620) | 0.0031 | 8,924 | 28
| Kodiak (630) | 0.0002 | 1,753 | 0
| C Season (W/C areas only) |  |  |
| August 25 - October 1 |  |  |
| Shumagin (610) | 0.0098 | 7,995 | 78
| Chirikof (620) | 0.0031 | 2,304 | 7
| Kodiak (630) | 0.0002 | 4,889 | 1
| D Season (W/C areas only) |  |  |
| October 1 - November 1 |  |  |
| Shumagin (610) | 0.0098 | 7,995 | 78
| Chirikof (620) | 0.0031 | 2,304 | 7
| Kodiak (630) | 0.0002 | 4,889 | 1
| Annual |  |  |
| WYK (640) | 0 | 1,398 | 0
| SEO (650) | 0 | 6,157 | 0
Pacific cod | A Season¹ |  |  |
| January 1 - June 10 |  |  |
| W inshore | 0.0902 | 10,876 | 981
| W offshore | 0.2046 | 1,208 | 247
| C inshore | 0.0383 | 15,339 | 587
| C offshore | 0.2074 | 1,704 | 353
| B Season² |  |  |
| September 1 - December 31 |  |  |
| W inshore | 0.0902 | 7,251 | 654
| W offshore | 0.2046 | 806 | 165
| C inshore | 0.0383 | 10,226 | 392
| C offshore | 0.2074 | 1,136 | 236
| Annual |  |  |
| E inshore | 0.0110 | 3,346 | 37
| E offshore | 0 | 372 | 0
Flatfish | W | 0.0035 | 420 | 1
deep-water | C | 0 | 4,163 | 0
| E | 0 | 4,124 | 0
Rex sole | W | 0 | 1,147 | 0
| C | 0 | 5,446 | 0
| E | 0 | 2,507 | 0
Flathead sole | W | 0.0002 | 2,000 | 0
| C | 0.0004 | 5,000 | 2
| E | 0 | 2,148 | 0
Flathead shallow-water | W | 0.0059 | 4,500 | 27
| C | 0.0001 | 13,000 | 1
| E | 0 | 2,472 | 0
Arrowtooth flounder | W | 0.0004 | 8,000 | 3
| C | 0.0001 | 30,000 | 3
| E | 0 | 5,000 | 0
Sablefish | W trawl gear | 0 | 494 | 0
| C trawl gear | 0 | 1,238 | 0
| E trawl gear | 0 | 283 | 0
Pacific ocean perch | W | 0 | 4,244 | 0
| C | 0 | 7,612 | 0
| E | 0 | 2,780 | 0
Shortraker rockfish | W | 0.0013 | 153 | 0
| C | 0.0012 | 353 | 0
| E | 0.0009 | 337 | 0
Rougheye rockfish | W | 0.0067 | 136 | 1
| C | 0.0047 | 611 | 3
| E | 0.0008 | 241 | 0
Other rockfish | W | 0.0035 | 577 | 2
| C | 0.0033 | 386 | 1
| E | 0 | 519 | 0
Northern rockfish | W | 0.0005 | 1,439 | 1
| C | 0 | 3,499 | 0
Pelagic shelf rockfish | W | 0.0017 | 1,466 | 2
| C | 0 | 3,325 | 0
| E | 0 | 751 | 0
Thornyhead rockfish | W | 0.0047 | 513 | 2
| C | 0.0066 | 989 | 7
| E | 0.0045 | 707 | 3
Big skate | W | 0.0392 | 695 | 27
| C | 0.0159 | 2,250 | 36
| E | 0 | 599 | 0
Longnose skate | W | 0.0392 | 65 | 3
| C | 0.0159 | 1,969 | 31
| E | 0 | 861 | 0
Other skates | GW | 0.0176 | 1,617 | 28
DSR | SEO | 0 | 410 | 0
Atka mackerel | Gulfwide | 0 | 1,500 | 0
Other species | Gulfwide | 0.0176 | 4,500 | 79
¹ The Pacific cod A season for trawl gear does not open until January 20.
² The Pacific cod B season for trawl gear closes November 1.

Table 17- Final 2008 GOA Non-American Fisheries Act Crab Vessel Groundfish Harvest Sideboard Limitations
(values are rounded to nearest metric ton)
Species | Apportionments and allocations by area/season/processor/gear | Ratio of 1996-2000 non-AFA crab vessel catch to 1996-2000 total harvest | 2008 TAC | 2008 non-AFA crab vessel sideboard limit
Pollock | A Season (W/C areas only) |  |  |
| January 20 - March 10 |  |  |
| Shumagin (610) | 0.0098 | 5,466 | 54
| Chirikof (620) | 0.0031 | 8,915 | 28
| Kodiak (630) | 0.0002 | 4,023 | 1
| B Season (W/C areas only) |  |  |
| March 10 - May 31 |  |  |
| Shumagin (610) | 0.0098 | 5,466 | 54
| Chirikof (620) | 0.0031 | 10,814 | 34
| Kodiak (630) | 0.0002 | 2,124 | 0
| C Season (W/C areas only) |  |  |
| August 25 - October 1 |  |  |
| Shumagin (610) | 0.0098 | 9,688 | 95
| Chirikof (620) | 0.0031 | 2,304 | 7
| Kodiak (630) | 0.0002 | 5,924 | 1
| D Season (W/C areas only) |  |  |
| October 1 - November 1 |  |  |
| Shumagin (610) | 0.0098 | 9,688 | 95
| Chirikof (620) | 0.0031 | 2,304 | 7
| Kodiak (630) | 0.0002 | 5,924 | 1
| Annual |  |  |
| WYK (640) | 0 | 1,694 | 0
| SEO (650) | 0 | 6,157 | 0
Pacific cod | A Season¹ |  |  |
| January 1 - June 10 |  |  |
| W inshore | 0.0902 | 11,278 | 1,017
| W offshore | 0.2046 | 1,253 | 256
| C inshore | 0.0383 | 15,905 | 609
| C offshore | 0.2074 | 1,767 | 366
| B Season² |  |  |
| September 1 - December 31 |  |  |
| W inshore | 0.0902 | 7,519 | 678
| W offshore | 0.2046 | 835 | 171
| C inshore | 0.0383 | 10,603 | 406
| C offshore | 0.2074 | 1,178 | 244
| Annual |  |  |
| E inshore | 0.0110 | 3,470 | 38
| E offshore | 0 | 386 | 0
Flatfish | W | 0.0035 | 430 | 2
deep-water | C | 0 | 4,296 | 0
| E | 0 | 4,257 | 0
Rex sole | W | 0 | 1,122 | 0
| C | 0 | 5,327 | 0
| E | 0 | 2,551 | 0
Flathead sole | W | 0.0002 | 2,000 | 0
| C | 0.0004 | 5,000 | 2
| E | 0 | 2,258 | 0
Flathead shallow-water | W | 0.0059 | 4,500 | 27
| C | 0.0001 | 13,000 | 1
| E | 0 | 2,472 | 0
Arrowtooth flounder | W | 0.0004 | 8,000 | 3
| C | 0.0001 | 30,000 | 3
| E | 0 | 5,000 | 0
Sablefish | W trawl gear | 0 | 492 | 0
| C trawl gear | 0 | 1,232 | 0
| E trawl gear | 0 | 281 | 0
Pacific ocean perch | W | 0 | 4,291 | 0
| C | 0 | 7,694 | 0
| E | 0 | 2,812 | 0
Shortraker rockfish | W | 0.0013 | 153 | 0
| C | 0.0012 | 353 | 0
| E | 0.0009 | 337 | 0
Rougheye rockfish | W | 0.0067 | 137 | 1
| C | 0.0047 | 614 | 3
| E | 0.0008 | 242 | 0
Other rockfish | W | 0.0035 | 577 | 2
| C | 0.0033 | 386 | 1
| E | 0 | 519 | 0
Northern rockfish | W | 0.0005 | 1,383 | 1
| C | 0 | 3,365 | 0
Pelagic shelf rockfish | W | 0.0017 | 1,752 | 3
| C | 0 | 3,973 | 0
| E | 0 | 897 | 0
Thornyhead rockfish | W | 0.0047 | 513 | 2
| C | 0.0066 | 989 | 7
| E | 0.0045 | 707 | 3
Big skate | W | 0.0392 | 695 | 27
| C | 0.0159 | 2,250 | 36
| E | 0 | 599 | 0
Longnose skates | W | 0.0392 | 65 | 3
| C | 0.0159 | 1,969 | 31
| E | 0 | 861 | 0
Other skates | GW | 0.0176 | 1,617 | 28
Demersal shelf rockfish | SEO | 0 | 410 | 0
Atka mackerel | Gulfwide | 0 | 1,500 | 0
Other species | Gulfwide | 0.0176 | 4,500 | 79
¹ The Pacific cod A season for trawl gear does not open until January 20.
² The Pacific cod B season for trawl gear closes November 1.

Rockfish Program Groundfish Sideboard Limitations and Halibut Mortality Limitations

Section 679.82(d)(7) establishes sideboards to limit the ability of participants eligible for the Rockfish Program to catch fish in fisheries other than the Central GOA rockfish fisheries. The Rockfish Program provides certain economic advantages to harvesters. Harvesters could use this economic advantage to increase their participation in other fisheries, adversely affecting the participants in other fisheries. These final sideboards limit the total amount of catch in other groundfish fisheries that could be taken by eligible harvesters and limit the amount of halibut mortality to historic levels. The sideboard measures are in effect only during the month of July. Historically, the Central GOA trawl rockfish fisheries opened in July. The sideboards are designed to restrict fishing during the historical season for the fishery, but allow eligible rockfish harvesters to participate in fisheries before or after the historical rockfish season. The two categories of sideboard limits are catch amount constraints and closures of specific directed fisheries during July. The sideboard provisions are discussed in detail in the Rockfish Program proposed rule (71 FR 33040, June 7, 2006) and final rule (71 FR 67210, November 20, 2006). Tables 18 and 19 list the final 2007 and 2008 harvest limits for rockfish in the WYK District and the Western Regulatory Area. Table 20 lists the final 2007 and 2008 halibut mortality limits for the Western and Central Regulatory Areas and the WYK District.

Table 18 - Final 2007 Rockfish Program Harvest Limits by Sector for West Yakutat District and Western Regulatory Area by the Catcher/Processor (C/P) and Catcher Vessel (CV) Sectors
(values are rounded to nearest metric ton)
Management Area | Fishery | C/P sector (% of TAC) | CV sector (% of TAC) | 2007 TAC | 2007 C/P limit | 2007 CV limit
West Yakutat District | Pelagic shelf rockfish | 72.4 | 1.7 | 307 | 222 | 5
| Pacific ocean perch | 76.0 | 2.9 | 1,140 | 866 | 33
Western Regulatory Area | Pelagic shelf rockfish | 63.3 | 0.0 | 1,466 | 928 | 0
| Pacific ocean perch | 61.1 | 0.0 | 4,244 | 2,593 | 0
| Northern rockfish | 78.9 | 0.0 | 1,439 | 1,135 | 0

Table 19 - Final 2008 Rockfish Program Harvest Limits by Sector for West Yakutat District and Western Regulatory Area by the Catcher/Processor (C/P) and Catcher Vessel (CV) Sectors
(values are rounded to nearest metric ton)
Management Area | Fishery | C/P sector (% of TAC) | CV sector (% of TAC) | 2008 TAC | 2008 C/P limit | 2008 CV limit
West Yakutat District | Pelagic shelf rockfish | 72.4 | 1.7 | 366 | 265 | 5
| Pacific ocean perch | 76.0 | 2.9 | 1,153 | 876 | 25
Western GOA | Pelagic shelf rockfish | 63.3 | 0.0 | 1,752 | 1,109 | 0
| Pacific ocean perch | 61.1 | 0.0 | 4,291 | 2,622 | 0
| Northern rockfish | 78.9 | 0.0 | 1,383 | 1,091 | 0

Table 20 - Final 2007 and 2008 Rockfish Program Halibut Mortality Limits for the Catcher/Processor and Catcher Vessel Sectors
(values are rounded to nearest metric ton)
Sector | Shallow-water complex halibut PSC sideboard ratio | Deep-water complex halibut PSC sideboard ratio | Annual halibut mortality limit (mt) | Annual shallow-water complex halibut PSC sideboard limit (mt) | Annual deep-water complex halibut PSC sideboard limit (mt)
Catcher/processor | 3.99 | 0.54 | 2,000 | 80 | 11
Catcher vessel | 1.08 | 6.32 | 2,000 | 22 | 126

Directed Fishing Closures

Pursuant to § 679.20(d)(1)(i), if the Regional Administrator determines (1) that any allocation or apportionment of a target species or “other species” category allocated or apportioned to a fishery will be reached or, (2) with respect to pollock and Pacific cod, an allocation or apportionment to an inshore or offshore component allocation will be reached, the Regional Administrator may establish a DFA for that species or species group. If the Regional Administrator establishes a DFA and that allowance is or will be reached before the end of the fishing year, NMFS will prohibit directed fishing for that species or species group in the specified GOA regulatory area or district (§ 679.20(d)(1)(iii)).

The Regional Administrator has determined that the following TAC amounts in Table 21 are necessary as incidental catch to support other anticipated groundfish fisheries for the 2007 and 2008 fishing years.

Table 21 - Directed Fishing Closures in the GOA 2007 and 2008
(Amounts needed for incidental catch in other directed fisheries are in metric tons)
Target | Regulatory Area | Gear/Component | Amount
Atka mackerel | entire GOA | all | 1,500
Thornyhead rockfish | entire GOA | all | 2,209
Shortraker rockfish | entire GOA | all | 843
Rougheye rockfish | entire GOA | all | 988 (2007) 993 (2008)
Other rockfish | entire GOA | all | 1,482
Sablefish | entire GOA | trawl | 2,015 (2007) 2,004 (2008)
Big skates | entire GOA | all | 3,544
Longnose skates | entire GOA | all | 2,895
Other skates | entire GOA | all | 1,617
Pollock | entire GOA | all/offshore | unknown¹
¹Pollock is closed to directed fishing in the GOA by the offshore component under § 679.20(a)(6)(i).

Consequently, in accordance with § 679.20(d)(1)(i), the Regional Administrator establishes the DFA for the species or species groups listed in Table 21 as zero. Therefore, in accordance with § 679.20(d)(1)(iii), NMFS is prohibiting directed fishing for those species, regulatory areas, gear types, and components listed in Table 21. These closures will remain in effect through 2400 hrs, A.l.t., December 31, 2008.

Section 679.64(b)(5) provides for management of AFA catcher vessel groundfish harvest limits and PSC bycatch limits using directed fishing closures and PSC closures according to procedures set out at §§ 679.20(d)(1)(iv), 679.21(d)(8), and 679.21(e)(3)(v). The Regional Administrator has determined that, in addition to the closures listed above, many of the non-exempt AFA catcher vessel sideboard limits listed in Tables 13 and 14 are necessary as incidental catch to support other anticipated groundfish fisheries for the 2007 and 2008 fishing years. In accordance with § 679.20(d)(1)(iv), the Regional Administrator sets the DFAs for the species and species groups in Table 22 at zero. Therefore, in accordance with § 679.20(d)(1)(iii), NMFS is prohibiting directed fishing by non-exempt AFA catcher vessels in the GOA for the species and specified areas set out in Table 22. These closures will remain in effect through 2400 hrs, A.l.t., December 31, 2008.

Table 22 - 2007 and 2008 Non-Exempt AFA Catcher Vessel Sideboard Directed Fishing Closures in the GOA
(Amounts needed for incidental catch in other directed fisheries are in metric tons)
Species | Regulatory Area/District | Gear | Amount
Pacific cod | Eastern | all | 26 (inshore 2007) 27 (inshore 2008) 3 (offshore 2007) 3 (offshore 2008)
Deep-water flatfish | Western | all | 0
Rex sole | Western | all | 1
Flathead sole | Eastern and Western | all | 10 and 7 (2007) 11 and 7 (2008)
Shallow-water flatfish | Eastern | all | 31
Arrowtooth flounder | Eastern and Western | all | 10 and 17
Northern rockfish | Western | all | 0
Pelagic shelf rockfish | entire GOA | all | 0(W), 0(C), 5(E) in 2007 0(W), 0(C), 6(E) in 2008
Demersal shelf rockfish | SEO District | all | 1

Section 680.22 provides for the management of non-AFA crab vessel groundfish harvest limits using directed fishing closures in accordance with § 680.22(e)(2) and (3). The Regional Administrator has determined that the non-AFA crab vessel sideboards listed in Tables 16 and 17 are insufficient to support a directed fishery and set the sideboard DFA at zero, with the exception of pollock in the Western Regulatory Area and Pacific cod in the Western and Central Regulatory Areas. Therefore in accordance with § 680.22(e)(3), NMFS is prohibiting directed fishing by non-AFA crab vessels in the GOA for all species and species groups listed in Tables 16 and 17, with the exception of pollock in the Western Regulatory Area and Pacific cod in the Western and Central Regulatory Areas.

Section 679.82 provides for the management of Rockfish Program sideboard limits using directed fishing closures in accordance with § 679.82(d)(7)(i) and (ii). The Regional Administrator has determined that the catcher vessel sideboards listed in Tables 18 and 19 are insufficient to support a directed fishery and set the sideboard DFA at zero. Therefore, NMFS is closing directed fishing for pelagic shelf rockfish and Pacific ocean perch in the WYK District and the Western Regulatory Area and northern rockfish in the Western Regulatory Area by catcher vessels participating in the Central GOA Rockfish Program during the month of July in 2007 and 2008. These closures will remain in effect through 2400 hrs, A.l.t., December 31, 2008.

Under authority of the final 2006 specifications (71 FR 10870, March 3, 2006), pollock fishing opened on January 20, 2006, for amounts specified in that notice. NMFS has since closed Statistical Area 610 to directed fishing for pollock effective 1200 hrs, A.l.t., January 22, 2007 (72 FR 2462, January 19, 2007) until 1200 hrs, A.l.t., February 5, 2007 (72 FR 6177, February 09, 2007), and 1200 hrs, A.l.t., February 7, 2007, until 1200 hrs, A.l.t., February 8, 2007 (72 FR 6694, February 13, 2007), and 1200 hrs, A.l.t., February 10, 2007, until 1200 hrs, A.l.t., March 10, 2007. NMFS closed Statistical Area 630 to directed fishing for pollock effective 1200 hrs, A.l.t., January 22, 2007 (72 FR 2793, January 23, 2007) until 1200 hrs, A.l.t., February 6, 2007 (72 FR 5346, February 6, 2007), and 1200 hrs, A.l.t., February 8, 2007, until 1200 hrs, A.l.t, February 12, 2007 (72 FR 7353, February 15, 2007), and 1200 hrs, A.l.t., February 14, 2007, until 1200 hrs, A.l.t., February 20, 2007 (72 FR 8132, February 23, 2007) and 1200 hrs, A.l.t., February 22, 2007, until 1200 hrs, A.l.t., March 10, 2007. NMFS prohibited directed fishing for the A season allowance of the 2007 Pacific cod sideboard limits apportioned to non AFA crab vessels catching Pacific cod for processing by the inshore component in the Central Regulatory Area of the GOA, effective 12 noon, A.l.t., January 24, 2007 until 1200 hrs, A.l.t., September 1, 2007 (72 FR 3748, January 26, 2007). NMFS prohibited directed fishing for the A season allowance of the 2007 Pacific cod sideboard limits apportioned to non AFA crab vessels catching Pacific cod for processing by the inshore component in the Western Regulatory Area of the GOA, effective 12 noon, A.l.t., February 16, 2007 until 1200 hrs, A.l.t., September 1, 2007 (72 FR 7750, February 20, 2007). NMFS prohibited directed fishing for Pacific cod by vessels catching Pacific cod for processing by the offshore component of the Western Regulatory Area of the GOA, effective 12 noon, A.l.t., February 14, 2007 until 1200 hrs, A.l.t., September 1, 2007 (72 FR 7749, February 20, 2007). NMFS prohibited directed fishing for Pacific cod by vessels catching Pacific cod for processing by the offshore component of the Central Regulatory Area of the GOA, effective 12 noon, A.l.t., February 14, 2007 until 1200 hrs, A.l.t., September 1, 2007 (72 FR 7750, February 20, 2007). NMFS rescinds the closure in the Chiniak Gully Research Area of the GOA to all commercial trawl fishing and testing of trawl gear from August 1 to September 20, 2007 (72 FR 7751, February 20, 2007). While these closures are in effect, the maximum retainable amounts at § 679.20(e) and (f) apply at any time during a fishing trip. These closures to directed fishing are in addition to closures and prohibitions found in regulations at 50 CFR part 679. NMFS may implement other closures during the 2007 and 2008 fishing years as necessary for effective conservation and management.

Response to Comments

NMFS received 2 letters of comment (16 comments) in response to proposed the 2007 and 2008 harvest specifications. These comments are summarized and responded to below.

Comment 1: The proposed harvest specifications and accompanying Alaska Groundfish Harvest Specifications Environmental Impact Statement (EIS) do not represent a substantial implementation of the Alaska Groundfish Fisheries Final Programmatic Supplemental Environmental Impact Statement (PSEIS) policy statement, but rather a transparent attempt to indemnify the agency against the inadequacies of the status quo harvest strategy. The proposed harvest specifications lack the perspective of the ecosystem-based policy framework outlined in the PSEIS because there are no explicit procedures in the TAC-setting process to address the impacts of single-species fishing strategies on dependent and related species and their habitats in an ecosystem context. Therefore, the policy framework outlined in the PSEIS has not been implemented in the regulations governing the operation of the groundfish fisheries. Under the proposed harvest specifications, ecosystem concerns would remain at best ancillary to the process of allocating fish and maximizing short-term economic benefits.

Response: The preferred harvest strategy alternative described in the EIS is derived from the policy adopted as the preferred alternative in the PSEIS (see ADDRESSES) and is one of the actions necessary to implement that policy statement. Ecosystem concerns are integral to the EIS analysis. The purpose of the EIS is to describe the potential environmental impacts of the alternative harvest strategies, including an analysis of the potential impacts of these alternatives on ecosystem components and the ecosystem as a whole.

In addition to the EIS analysis, all available scientific information on the ecosystem is analyzed and presented to decision-makers and the public on an annual basis during the harvest specifications process. The annual SAFE reports, which provide the scientific information to support the harvest specifications for each species, include ecosystem considerations sections that describe the role of each target species in the ecosystem. The SAFE report also contains a separate “Ecosystems Considerations” chapter.

Groundfish fisheries management, including the harvest specification process, takes account of ecosystem requirements related to predation, competition, and habitat to provide protection for ecosystem components. Under the harvest strategy, the determination of annual harvest specifications incorporates ecosystem considerations, in the face of uncertainty in the quantitative links between species. The most significant ecosystem considerations are (1) the upper end of the OY range in the GOA, which imposes a constraint on total biomass removal, and (2) OFLs that prevent overfishing of each stock. A species' OFL is a harvest limit rather than a target and ABCs are set below OFLs. The tier system sets maximum ABCs and managers can set actual ABCs lower for ecosystem considerations. TACs never exceed ABCs and are frequently set at lower levels. TACs can also be adjusted downward for ecosystem considerations. Additionally, managers have established harvest control rules for pollock, Pacific cod, and Atka mackerel that prohibit directed fishing at low biomass levels, to account for Steller sea lion prey needs. TACs and actual catches, especially in the GOA, are often lower than ABCs to protect other species, especially halibut, that may be taken as bycatch. Managers frequently restrict directed fishing for many species before TACs are reached to comply with PSC limits. Inseason management closes directed fisheries when TACs are reached, and restricts fishing in other fisheries taking the species as bycatch when OFLs are approached.

As noted below in the response to Comment 2, the groundfish management framework includes many measures, in addition to the harvest strategy, to mitigate the ecosystem impacts of the groundfish fisheries.

Comment 2: Existing management measures may be construed as consistent with an ecosystem-based approach, but they do not address major ecosystem impacts of the fisheries as promulgated in the annual catch specifications.

Response: Existing management measures address major ecosystem impacts of the fisheries, and the Council and NMFS are engaged in an ongoing effort to improve the ways this is done.

The existing regulatory framework imposes many constraints on fishing activity, including time, area, and gear restrictions, in order to mitigate or control ecosystem impacts created by fishing activity. Regulations impose maximum retainable amount (MRA) limits on the volume of bycatch a vessel may deliver or have onboard. Prohibited species catch (PSC) regulations impose limits on harvests of crab, salmon, herring, and halibut, and restrict fishing activity once those limits are reached. Important restrictions have been imposed on key fisheries to limit competition for Steller sea lion prey and to protect Steller sea lion critical habitat. The Council and NMFS have adopted numerous measures to limit bycatch and control the discards of low value fish by-products. Seabirds attracted to longlines are protected by mandatory gear requirements, such as streamers, meant to reduce incidental takes.

NMFS and the Council are continuing to develop ecosystem management measures for the groundfish fisheries. The Council has created a committee to inform them of ecosystem developments and to assist in formulating positions with respect to ecosystem-based management. The Council has taken the lead in the establishment of the interagency Alaska Marine Ecosystem Forum to improve inter-agency coordination and communication on marine ecosystem issues. The SSC has begun to hold annual ecosystem scientific meetings at the February Council meetings. In addition to exploring how to develop ecosystem management efforts, the Council and NMFS continue to take account of ecosystem impacts of fishing activity as available information allows. For example, the Council is currently consulting under the Endangered Species Act (ESA) for Steller sea lions, sperm and humpback whales. Ecosystem protection is supported by an extensive research program by the Alaska Fisheries Science Center (AFSC) into ecosystem components and integrated ecosystem functioning. Exempted fishing permits (EFPs) are issued to research halibut excluder devices.

Additionally, the EIS considers other actions taken to manage the fisheries, including reasonable future fisheries management actions, as these are relevant to the environmental consequences of the harvest strategy alternatives. The Council and NMFS have processes consistent with National Environmental Policy Act (NEPA) to evaluate each action to regulate other aspects of the fisheries. The overall fishery management policy within which the harvest strategies fall has been evaluated in the PSEIS. Moreover, NMFS and the Council evaluated each management measure at the time it was adopted in the relevant NEPA document. Considering different management measures in separate actions allows for more careful analysis of alternatives and the implications of each, and is often less confusing to the public. The Council and NMFS are actively evaluating a wide range of new management measures through these processes and will continue to do so.

Comment 3: Levels of exploitation on single stocks are set with no explicit consideration of the impacts of dependent, competing species in the food web or other impacts on associated species that flow from the exploitation of a relative few commercially desirable species. The single species F40% policy ignores effects on the ecosystem and simply assumes that individual target species can be fished to the maximum sustainable yield (MSY) without significant consequences to other species in the food web.

Response: The harvest strategy incorporates a key principle of ecosystem-based fisheries management by preserving individual stocks and preventing overfishing of those stocks. This is important for protecting ecosystem components that depend on these individual stocks. The effects of the groundfish fisheries and fishing rates are analyzed in the EIS and the annual SAFE reports.

The tier system in the FMP and the harvest specifications process lead to TACs associated with fishing rates that are less than FMSY. FOFL is never greater than FMSY, or an appropriate FMSY proxy. Average multi-year fishery harvest rates fall below FMSY because the tier system treats FOFL as a limit rather than a target. The fishing rates associated with maximum permissible ABC, actual ABC, and the TAC, all fall below the FOFL, providing a margin between the actual F and the FMSY. Moreover, as discussed in response to Comment 2, other management measures often constrain actual catches and fishing rates below the TACs or the fishing rates associated with the TACs.

With current levels of information, we cannot precisely specify the margin or threshold between FOFL and actual harvest rate that provides the appropriate level of protection for various ecosystem properties. The AFSC continues to develop and improve scientific information in the Ecosystems Considerations section of the SAFE report. New information added in 2006 included the relationship between predation/production and fishing/production, a metric proposed to evaluate the management implications of potential exploitation of forage species, and a metric proposed to evaluate the “footprint” of individual fisheries.

The AFSC also continues to develop and improve several multispecies and ecosystem models to predict the possible effects of fishing and/or climate on ecosystem processes. Ecosystem modeling is extremely complex, and the incorporation of ecosystem considerations into the harvest specifications process is an evolving process. The AFSC is advancing this process through the development of multispecies fish stock assessment models that include predation, ecosystem mass-balance and simulation models, and single-species stock assessment models that include predation. The AFSC briefed the Groundfish Plan Teams on the results of these analyses to help them in their deliberations in the harvest specifications process.

Comment 4: Selective removals of species and large differences in catch rates for managed stocks may be responsible for significant and lasting changes in the structure of groundfish assemblages and food webs in the North Pacific, as seen in other ecosystems. Selective extraction of a relatively few high-value species may provide a competitive opportunity for “under-utilized” species such as arrowtooth flounder, which appear to have increased dramatically since the 1970s. NMFS consistently attributes regional stock declines and broader system changes to the weather (“regime shifts”), a transparent stratagem that serves to justify the status quo and absolve the agency of responsibility for fishery-related systemic changes.

Response: NMFS analyzes and considers the interactions among fish species in its evaluations of the impacts of groundfish fishing. The nature of competitive interactions among species is an area of ongoing research by the AFSC. These issues are discussed in the ecosystem sections of individual species SAFE reports and by the Plan Teams as they formulate their ABC recommendations.

Species interactions are complex and imperfectly understood in the North Pacific. The AFSC is collaborating to develop a detailed, age-structured, multispecies statistical model to study this complex interaction of pollock and arrowtooth flounder. This “cultivation/depensation” model is expected to be completed in the near future. In December 2006, a Groundfish Plan Team leader briefed the Council and its SSC and AP on the complex interactions between pollock and arrowtooth flounder and on the potential application of this model whereby a species such as pollock “cultivates” its young by preying on species that would eat its young.

Regime shifts remain an important consideration. Regime shifts are well documented; these changes in climate are believed to have affected relative abundance of species in the past, and are expected to do so in the future.

Comment 5: NMFS fails to analyze the cumulative and synergistic effects of selective exploitation, benthic habitat modification, and serial depletion of targeted stocks in the North Pacific. The “Ecosystem Considerations” chapter in the annual SAFE reports does not consider the effects of large-scale fisheries off Alaska on long-term restructuring of food web dynamics and on composition of species assemblages. An evaluation of this phenomenon, and consideration of alternatives to address it, is also missing from the EIS and the harvest specification process. Additionally, the proposed harvest specifications do not mitigate the effects of selective exploitation and disproportionate exploitation rates.

Response: NMFS takes a conservative approach to management in response to uncertainties. Conservative elements in the harvest strategies and groundfish fisheries management are listed in the responses to Comments 1, 2, 12, and 13. The EIS analyzed alternative harvest strategies that met the scope of this action, as determined by the statement of purpose and need.

The EIS analyzes the effects of the alternative harvest strategies on target stocks and habitat in a comprehensive way that looks at both the individual species impacts and the overall ecosystem function impacts. NMFS agrees that uncertainty exists in assessing the ecosystem effects of alternative harvest strategies. One of the functions of an EIS is to identify these uncertainties. The EIS and the Ecosystem Considerations chapter of the SAFE reports examine trends in the trophic level of catch and species diversity. As noted in the response to Comment 4, competitive interactions between fisheries are an active area of AFSC research, and are discussed, as appropriate, in the ecosystem discussions in the species-specific sections of the SAFE reports.

Comment 6: Neither the EIS nor its alternatives address the issues of setting exploitation levels on single stocks with no explicit consideration of the impacts of dependent, competing species in the food web or other impacts on associated species that flow from the exploitation of a relative few commercially desirable species.

Response: The EIS directly examines the impacts of the alternative harvest strategies on non-target species, including food web interactions. The EIS examines the impacts of groundfish fishing on forage fish availability in Chapter 6, and the trophic level of catches in Chapter 11. The EIS includes detailed analyses of the impacts on prey and habitat for key species and species groupings of marine mammals and seabirds in Chapters 8 and 9.

Comment 7: The uncertainties of ecosystem mechanics underscore the need for a much more precautionary approach to fisheries management in the context of food web and habitat conservation, and illustrate why the agency's determinations of non-significance for fishery impacts on prey availability and spatial/temporal concentration of fisheries are arbitrary and capricious. NMFS cannot demonstrate that the current and proposed levels of fishing permitted in protected species' habitats are “safe” or “insignificant.” Rather, NMFS assumes that the impact is insignificant in the absence of conclusive evidence to the contrary. The burden of proof is on the environment to show harm. This is opposite of precautionary and the opposite of an ecosystem-based approach.

Response: NMFS did not make a determination of non-significance in the EIS. The EIS fully discloses known impacts, areas of uncertainty, and presents the information in comparative form to aid in decision-making. NMFS agrees that uncertainty exists in assessing the ecosystem effects of alternative harvest strategies. Identifying these uncertainties is one of the functions of an EIS. The EIS identifies potential adverse impacts of the alternatives on the ecosystem and the uncertainty of those impacts. NMFS is actively taking steps to reduce uncertainty and better understand the environment through ongoing scientific research. Many elements built into the harvest specifications process, and into the groundfish fisheries management regime, described in the responses to Comments 1, 2, 12, and 13, contribute to conservative management.

Comment 8: Major habitat impacts of fishing on the Essential Fish Habitat (EFH) of FMP-managed species and foraging habitats of ESA and Marine Mammal Protection Act (MMPA)-protected species are not addressed in the EIS or mitigated in the proposed harvest specifications.

Response: NMFS has examined in the EIS the impacts of fishing on EFH of FMP-managed species, and on the foraging habitats of ESA- and MMPA-protected species. Chapter 8 examines the impacts of alternative groundfish harvest strategies on ESA- and MMPA-listed marine mammals. Chapter 9 provides a similar examination for ESA-listed seabirds. Chapter 10 examines the impacts of the harvest strategies on EFH and incorporates by reference the analysis in the Essential Fish Habitat Environmental Impact Statement (EFH EIS, see ADDRESSES) that examines the impact of fishing on benthic habitat.

Habitat impacts of fishing on the EFH of FMP-managed species and foraging habitats of ESA- and MMPA-protected species are mitigated by the extensive habitat protection measures enacted in the GOA. These are described in the response to Comment 11.

Comment 9: The EIS fails to evaluate the impacts of pelagic trawl gear on habitat and the impact of the spatial concentration of pollock and Pacific cod catches on stock size, in a meaningful fashion, and fails to consider an alternative to address these impacts. There is little scientific evidence that fishing on spawning stocks of Alaskan groundfish has had adverse impacts on recruitment success. The status quo practice of targeting groundfish on spawning grounds, when the fish are most vulnerable to fishing gear, is a habitat impact of particular significance that must be addressed. The dismal abundance trends of several regional pollock stocks and large uncertainties in stock structure among many groundfish populations cry out for explicit protection of spawning grounds.

Response: The impacts of pelagic trawling on habitat are evaluated in the EFH EIS. Chapter 10 of the EIS provides an EFH Assessment that incorporates by reference the EFH EIS analysis of the impacts of the groundfish fisheries on EFH. Fisheries management measures, other than harvest strategies, are outside the scope of the action analyzed in the EIS. Pollock and Pacific cod catches are apportioned seasonally under existing measures adopted to protect Steller sea lions. Further seasonal apportionments of catch would require regulatory changes that were outside the scope of this action, as defined by the purpose and need.

Comment 10: The MSA's EFH provisions should require the adoption of marine reserves to protect vulnerable reproductive habitats that are targeted by the fisheries.

Response: This is not a comment on the content of the groundfish harvest specifications or on the accompanying EIS, and deals with issues that are beyond the scope of both.

Comment 11: NMFS' assertions that the status quo EFH measures provide adequate protection or that the spatial/temporal concentration of the fisheries has insignificant impacts on EFH are not supported by evidence. The EIS fails to evaluate this information and consider alternatives that would address these impacts on fish habitat, and the proposed harvest specifications provide no adequate mitigation measures to address these impacts. NMFS cannot demonstrate that the current and proposed levels of fishing permitted in managed species' habitats are insignificant or compliant with the spirit and letter of the MSA's EFH provisions. Rather, NMFS assumes that the impact is insignificant in the absence of conclusive evidence to the contrary. The burden of proof is on the environment and the managed species to show harm. This is opposite of a precautionary approach to EFH conservation.

Response: In this EIS NMFS fully discloses known impacts, identifies uncertainties, and presents information in comparative form to aid in decision-making. Detailed information on fishing on EFH contained in the 2005 EFH EIS was incorporated by reference in this EIS. As discussed in Chapter 2 of the EIS, fisheries management measures, other than harvest strategies, are outside the scope of this action, as defined by the statement of purpose and need.

The discussion of habitat impacts in the EIS incorporated by reference the science and analysis in the EFH EIS. The analyses in Section 4.3 and Appendix B of the EFH EIS indicated that groundfish fishing has long-term effects on benthic habitat features off Alaska and acknowledged that considerable scientific uncertainty remains regarding the consequences of such habitat changes for the sustained productivity of managed species. Nevertheless, the EFH EIS concluded that the effects on EFH are minimal because the analysis found no indication that continued fishing activities at the current rate and intensity would alter the capacity of EFH to support healthy populations of managed species over the long term. Therefore, the EFH EIS determined that new protection measures for the fisheries to reduce the adverse effects on EFH were not required. Nevertheless, the Council recommended a suite of new conservative measures to reduce potential adverse effects to EFH and Habitat Areas of Particular Concerns from the effects of fishing activities. These actions continue the Council's policy of implementing conservative conservation measures for the Alaska fisheries, as described in the management policies and objectives added to the groundfish FMPs from the PSEIS policy statement. NMFS implemented the Council's recommendations in 2006 (71 FR 36694; June 28, 2006).

The Council and NMFS have taken a conservative approach to habitat protection by enacting substantial restrictions on fishing that minimize potential adverse effects on EFH. Measures to protect Steller sea lions have fully or partially closed about 58,000 square nautical miles to fishing in the AI subarea and GOA. More recently, the Council and NMFS adopted a suite of new measures to reduce the effects of fishing on EFH in the AI subarea and GOA, protecting nearly 300,000 square nautical miles of habitat. Ten areas known as the GOA Slope Habitat Conservation Areas along the continental slope are closed to bottom trawling to protect hard bottom habitat that may be important to rockfish. Five GOA Coral Habitat Protection Areas in southeast Alaska are closed to all bottom contact fishing and anchoring to protect dense thickets of red tree corals. Another fifteen areas offshore, called the Alaska Seamount Habitat Protection Areas, are closed to all bottom contact fishing and anchoring to protect seamounts.

The Council and NMFS have taken many other measures to protect habitat. These include wide range of protection measures, including the Kodiak king crab protections zones, the Cook Inlet trawl closure area, scallop dredge closure areas, and the Southeast Alaska trawl closure. These actions reflect a conservative management strategy.

Comment 12: The lack of spatial-temporal management of groundfish stocks has potentially profound adverse consequences for ESA-listed Steller sea lions and MMPA-listed northern fur seals. The apportionment of ABCs according to broad management subareas does not address the impacts of fishing at local scales relevant to foraging sea lions, fur seals, and other species. NMFS fails to address localized effects adequately in any alternative considered in the EIS or the proposed harvest specifications. NMFS cannot demonstrate that the current and proposed levels of fishing permitted in protected marine mammal species' habitats are insignificant. Existing uncertainties underscore the need for a highly precautionary approach to habitat conservation, and illustrate why the agency's claims that spatial/temporal concentration of the fisheries under the status quo have insignificant impacts on marine mammal foraging habitats and prey are not supported by evidence. As in other instances, the burden of proof is on the environment to show harm. This is opposite of a precautionary approach.

Response: NMFS did not make a determination of non-significance in the EIS. The EIS fully discloses known impacts, areas of uncertainty, and presents the information in comparative form to aid in decision-making. The EIS describes localized impacts of fishing activity on marine mammals. Chapter 8 in the EIS evaluates the impacts of this action on marine mammals, with particular attention to impacts on Steller sea lions and northern fur seals. The chapter describes what is known about the spatial and temporal overlap between groundfish fishing activity and marine mammal foraging habitat. The EIS summarizes the available information on the impacts of fishing activity on marine mammals and their habitat. While information on the spatial and temporal impact of groundfish fishing on other species is relatively limited, the EIS provides a review of the information available and indicates where information is lacking.

Endangered Steller sea lions have been protected by a suite of measures. Groundfish fisheries conducted in accordance with the Steller sea lion protection measures adopted in 2002 have been determined not to jeopardize Steller sea lions or adversely modify their critical habitat. The protection measures involve seasonal apportionments of annual TACs, limits on the proportion of catch within habitat important for Steller sea lion foraging, limits on fishing activity within areas adjacent to haulouts and rookeries, and closure of directed fishing when biomass falls to low levels. The protection measures and the conclusions of no jeopardy or adverse modification of habitat were arrived at after careful evaluation in 2001. Since that time, NMFS has continued to investigate the determinants of Steller sea lion declines. These measures are currently being reevaluated in a new biological opinion and revised recovery plan.

Comment 13: The proposed harvest specifications and the accompanying EIS fail in substantive ways to comply with the intent of the MSA, NEPA, the ESA, and the MMPA.

Response: Prior to approval, the Secretary ensures that this action and all actions it takes are in compliance with the MSA, NEPA, the ESA, and the MMPA.

Comment 14: Given the current uncertainties and lack of scientific information, it is essential to adopt a highly precautionary approach to exploitation of these ecosystems, in order to avoid the wholesale system reorganization and impoverishment that has been linked to fishing in other marine ecosystems.

Response: The Council recommended and NMFS approves the use of a cautionary approach.

Comment 15: There is no “balance” between the interests of fisheries and other public interests in the North Pacific region: the scales are tilted entirely to the advantage of the industrial fisheries whose interests are placed above all other public interests. The tradeoffs between often contrary FMP objectives are made by a decision-making body that is not representative of the broader public interest and that is biased heavily in favor of commercial utilization of the public resource for its own benefit. This state of affairs cries out for basic reforms of the kind outlined by the Pew Oceans Commission (2003) and the U.S. Oceans Policy Commission (2004) so that other public interests and societal goals are fairly represented, in order to achieve a real “balance between competing uses” of the ocean commons.

Response: This is not a comment on the content of the groundfish harvest specifications or on the accompanying EIS, and deals with issues that are beyond the scope of both.

Comment 16: All quotas should be cut in half this year and cut by 10 percent each year thereafter until we stop starving the marine life that depends on eating this fish too.

Response: The decisions on the amount of harvest are based on the best available science and socioeconomic considerations. NMFS finds that the ABCs and TACs are consistent with the biological condition of the groundfish stocks as described in the 2006 SAFE report and approved by the Council.

Small Entity Compliance Guide

The following information is a plain language guide to assist small entities in complying with this final rule as required by the Small Business Regulatory Enforcement Fairness Act of 1996. This final rule's primary management measures announce 2007 and 2008 final harvest specifications and prohibited species bycatch allowances for the groundfish fishery of the GOA. This action is necessary to establish harvest limits and associated management measures for groundfish during the 2007 and 2008 fishing years and to accomplish the goals and objectives of the FMP. This action affects all fishermen who participate in the GOA fishery. The specific amounts of OFL, ABC, TAC, and PSC are provided in tabular form to assist the reader. NMFS will announce closures of directed fishing in the Federal Register and in information bulletins released by the Alaska Region. Affected fishermen should keep themselves informed of such closures.

Classification

NMFS, determined that the FMP is necessary for the conservation and management of the GOA groundfish fishery and that it is consistent with the Magnuson-Stevens Fishery Conservation and Management Act and other applicable laws.

NMFS prepared a Draft EIS for this action and made it available to the public for comment (71 FR 53093, September 8, 2006). NMFS prepared the Final EIS and made it available to the public on January 12, 2007 (72 FR 1512). On February 13, 2007, NMFS issued the Record of Decision (ROD) for the Final EIS. Copies of the Final EIS and ROD for this action are available from NMFS (see ADDRESSES).

The Final Regulatory Flexibility Analysis (FRFA) was prepared to evaluate the impacts on small entities of alternative harvest strategies for the groundfish fisheries in the Exclusive Economic Zone (EEZ) off of Alaska. This FRFA meets the statutory requirements of the Regulatory Flexibility Act (RFA) of 1980, as amended by the Small Business Regulatory Enforcement Fairness Act (SBREFA) of 1996 (5 U.S.C. 601-612). A summary of the FRFA follows.

The action under consideration is adoption of a harvest strategy to govern the harvest of groundfish in the GOA Management Area. The preferred alternative is the status quo harvest strategy in which TACs fall within the range of ABCs recommended through the Council's harvest specification process and TACs recommended by the Council. This action is taken in accordance with the FMP and recommendations by the Council pursuant to the MSA.

The need for and objectives of this rule are described in the preamble and not repeated here.

Significant issues raised by public comment are addressed in the preamble and not repeated here.

The proposed harvest specifications were published in the Federal Register on December 15, 2006 (71 FR 75437). An Initial Regulatory Flexibility Analysis (IRFA) was prepared and was described in the classifications sections of that preamble. The public comment period ended on January 16, 2006. No comments were received regarding the economic impacts of this action.

The directly regulated small entities include approximately 747 small catcher vessels and less than 20 small catcher/processors. The entities directly regulated by this action are those that harvest groundfish in the EEZ of the GOA, and in parallel fisheries within State of Alaska waters. These include entities operating catcher vessels and catcher-processor vessels within the action area, and entities receiving direct allocations of groundfish. Catcher vessels and catcher processors were considered to be small entities if they had annual gross receipts, from all of their economic activities, and including the revenue of their affiliated operations, less than or equal to $4 million per year. Data from 2005 was used because it was the most recent available.

Estimates of first wholesale gross revenues for the GOA were used as indices of the potential impacts of the alternative harvest strategies on small entities. An index of revenues were projected to decline under the preferred alternative due to declines in ABCs for key species in the GOA. The index of revenues declined by less than four percent between 2006 and 2007 and by less than one percent between 2006 and 2008.

The preferred alternative (Alternative 2) was compared to four other alternatives. These included Alternative 1, which would set TACs so as to generate fishing rates equal to the maximum permissible ABC (if the full TAC were harvested), unless the sum of TACs would exceed the regional OY, in which case harvests would be limited to the OY. Alternative 3 would set TACs to produce fishing rates equal to the most recent five year average of fishing rates. Alternative 4 would set TACs to equal the lower bound of the regional OY range. Alternative 5 would set TACs equal to zero.

Alternatives 3, 4, and 5 were all associated with smaller levels for important fishery TACs than Alternative 2. Estimated total first wholesale gross revenues were used as an index of potential adverse impacts to small entities. As a consequence of the lower TAC levels, Alternatives 3, 4, and 5 all had smaller values of these first wholesale revenue indices than Alternative 2. Thus, Alternatives 3, 4, and 5 had greater adverse impacts on small entities. Alternative 1 appeared to generate higher values of the gross revenue index for fishing operations in the GOA than Alternative 2. A large part of the larger Alternative 1 GOA revenue appears to be due to the assumption that the full Alternative 1 TAC would be harvested. Much of the larger revenue is due to increases in flatfish TACs that were much larger for Alternative 1 than for Alternative 2. In recent years, halibut bycatch constraints in these fisheries have kept actual flatfish catches from reaching the Alternative 1 levels. Therefore, a large part of the revenues associated with Alternative 1 are unlikely to occur. Also, Alternative 2 TACs are constrained by the ABCs the Plan Team and SSC recommend to the Council on the basis of a full consideration of biological issues. These ABCs are often less than Alternative 1 maximum permissible ABCs. Therefore higher TACs under Alternative 1 may not be consistent with prudent biological management of the resource. For these reasons, Alternative 2 is the preferred alternative.

This action does not modify recordkeeping or reporting requirements, or duplicate, overlap, or conflict with any Federal rules.

This action is authorized under § 679.20 and is exempt from review under Executive Order 12866.

Adverse impacts on marine mammals resulting from fishing activities conducted under this rule are discussed in the EIS (see ADDRESSES).

Under 5 U.S. C. 553(d)(3), an agency can waive the 30 day delay in effectiveness of a rule for good cause. These final harvest specifications were developed as quickly as possible, given Plan Team review in November 2006, Council consideration and recommendations in December 2006, and NOAA Fisheries review and development in January-February 2007. For all fisheries not currently closed because the TACs established under the 2006 and 2007 final harvest specifications (71 FR 10870, March 3, 2006) were reached, the likely possibility exists for their closures prior to the expiration of a 30 day delayed effectiveness period because their TACs could be reached. Certain fisheries, such as those for pollock and Pacific cod intensive fast paced fisheries. Other fisheries, such as those for flatfish, rockfish and “other species,” are critical as directed fisheries and as incidental catch in other fisheries. U.S. fishing vessels have demonstrated the capacity to catch the TAC allocations in all these fisheries. Any delay in allocating the final TAC in these fisheries would cause disruption to the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries and causing them to close at an accelerated pace.

If the final harvest specifications are not effective by March 10, 2007, which is the start of the Pacific halibut season as specified by the IPHC, the hook-and-line sablefish fishery will not begin concurrently with the Pacific halibut season. This would cause a conservation issue as sablefish that is caught with Pacific halibut would have to be discarded, as both hook-and-line sablefish and Pacific halibut are managed under the same IFQ program. Immediate effectiveness of the 2007 and 2008 final harvest specifications will allow the sablefish fishery to begin concurrently with the Pacific halibut season, thus preventing needless discards. Also, the immediate effectiveness of this action is required to provide consistent management and conservation of fishery resources based on the best available scientific information, and to give the fishing industry the earliest possible opportunity to plan its fishing operations. These final harvest specifications were developed as quickly as possible, given Plan Team review in November 2006, Council consideration and recommendations in December 2006, and NOAA fisheries review and development in January and February 2007.

Furthermore, the current allocation for GOA Pacific cod under the authority of the 2006 and 2007 final harvest specifications (71 FR 10870, March 3, 2006) is lower (37,545 mt) than the allocation under the 2007 and 2008 final harvest specifications (52,264 mt), which is based on the best scientific information available. Unless this delay is waived and the 2007 and 2008 final harvest specifications become effective upon publication, the A season Pacific cod fisheries will close earlier than necessary. The GOA Pacific cod fishery is the second largest fishery in the GOA after pollock and all gear types are used to fish in the Pacific cod fisheries. Closures of the Pacific cod fisheries are restrictions on the industry that can be relieved by making the 2007 and 2008 final harvest specifications effective on publication. Premature closures disrupt fisheries and increase the potential for regulatory discards. The 2007 and 2008 final harvest specifications establish increased Pacific cod TACs to provide continued directed fishing for this species that would otherwise be prohibited under the 2006 and 2007 harvest specifications. Accordingly, NMFS finds that there is good cause to waive the 30 day delayed effectiveness period under 5 U.S.C. 553(d)(3).

Authority: 16 U.S.C. 773 et seq.; 1540(f); 1801 et seq.; 1851 note; and 3631 et seq.

Dated: February 22, 2007.
Samuel D. Rauch III,
Deputy Assistant Administrator for Regulatory Programs, National Marine Fisheries Service.

[FR Doc. E7-3775 Filed 3-2-07; 8:45 am]

BILLING CODE 3510-22-S